DEPARTMENT OF HOUSING AND URBAN DEVELOPMENT

[Docket No. FR-5125-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at (800) 927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, U.S. Coast Guard, Attn: Teresa Sheinberg, 2100 Second St., SW., Rm 6109, Washington, DC 20593-0001; (202) 267-6142; Energy: Mr. John Watson, Department of Energy, Office of Engineering & Construction Management, ME-90, 1000 Independence Ave., SW., Washington, DC 20585; (202) 586-0072; GSA: Mr. John E.B. Smith, Deputy Assistant Commissioner, General Services Administration, Office of Property Disposal, 18th and F Streets, NW., Washington, DC 20405; (202) 501-0084; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: August 16, 2007.
Mark R. Johnston,
Deputy Assistant Secretary for Special Needs.

Title V, Federal Surplus Property Program

Federal Register Report for 08/24/2007

Suitable/Available Properties

Land

New Hampshire

Blackburn Tract

Harding St.

Berlin, NH 03246

Landholding Agency: GSA

Property Number: 54200730012

Status: Surplus

GSA Number: 1-A-NH-0498-1A

Comments: 0.11 acre

Suitable/Unavailable Properties

Building

Hawaii

Bldg. 2652

Navy Aloha Center

Pearl Harbor, HI 96860

Landholding Agency: Navy

Property Number: 77200710039

Status: Underutilized

Comments: 9125 sq. ft., most recent use—office

Unsuitable Properties

Building

Alaska

Radar Tower

Potato Point Comm Site

Valdez, AK

Landholding Agency: Coast Guard

Property Number: 88200710001

Status: Excess

Reasons: Secured Area, Within 2000 ft. of flammable or explosive material, Not accessible by road

Radar Tower

Spit Site Comm Site

Valdez, AK

Landholding Agency: Coast Guard

Property Number: 88200710002

Status: Excess

Reasons: Secured Area

California

Bldgs. M03, MO14, MO17

Sandia National Lab

Livermore Co: Alameda, CA 94550

Landholding Agency: Energy

Property Number: 41200220001

Status: Excess

Reasons: Extensive deterioration

Unsuitable Properties

Building

California

Bldgs. C920, C921, C922

Sandia Natl Laboratories

Livermore Co: Alameda, CA 94551

Landholding Agency: Energy

Property Number: 41200540001

Status: Unutilized

Reasons: Extensive deterioration, Secured Area

Bldg. 175

Livermore National Lab

Livermore, CA

Landholding Agency: Energy

Property Number: 41200630001

Status: Excess

Reasons: Secured Area, Within 2000 ft. of flammable or explosive material

Trailer 1403

Livermore National Lab

Livermore, CA

Landholding Agency: Energy

Property Number: 41200630003

Status: Excess

Reasons: Within 2000 ft. of flammable or explosive material, Secured Area

Trailer 3703

Livermore National Lab

Livermore, CA

Landholding Agency: Energy

Property Number: 41200630004

Status: Excess

Reasons: Secured Area, Within 2000 ft. of flammable or explosive material

Unsuitable Properties

Building

California

Bldg. 363

National Laboratory

Livermore, CA

Landholding Agency: Energy

Property Number: 41200710001

Status: Excess

Reasons: Secured Area

Bldgs. 436, 446

National Laboratory

Livermore, CA

Landholding Agency: Energy

Property Number: 41200710002

Status: Excess

Reasons: Secured Area

Bldg. 3520

National Laboratory

Livermore, CA

Landholding Agency: Energy

Property Number: 41200710003

Status: Excess

Reasons: Within 2000 ft. of flammable or explosive material, Secured Area

Bldgs. 4182, 4184, 4187

National Laboratory

Livermore, CA

Landholding Agency: Energy

Property Number: 41200710004

Status: Excess

Reasons: Secured Area, Within 2000 ft. of flammable or explosive material

Unsuitable Properties

Building

California

Bldg. 5974

National Laboratory

Livermore, CA

Landholding Agency: Energy

Property Number: 41200710005

Status: Excess

Reasons: Within 2000 ft. of flammable or explosive material, Secured Area

Bldgs. 194A, 198

Lawrence Livermore Natl Lab

Livermore, CA

Landholding Agency: Energy

Property Number: 41200720007

Status: Excess

Reasons: Secured Area, Within 2000 ft. of flammable or explosive material

Bldgs. 213, 280

Lawrence Livermore Natl Lab

Livermore, CA

Landholding Agency: Energy

Property Number: 41200720008

Status: Excess

Reasons: Secured Area, Within 2000 ft. of flammable or explosive material

Bldgs. 312, 345

Lawrence Livermore Natl Lab

Livermore, CA

Landholding Agency: Energy

Property Number: 41200720009

Status: Excess

Reasons: Secured Area, Within 2000 ft. of flammable or explosive material

Unsuitable Properties

Building

California

Bldgs. 2177, 2178

Lawrence Livermore Natl Lab

Livermore, CA

Landholding Agency: Energy

Property Number: 41200720010

Status: Excess

Reasons: Within 2000 ft. of flammable or explosive material, Secured Area

Bldgs. 2687, 3777

Lawrence Livermore Natl Lab

Livermore, CA

Landholding Agency: Energy

Property Number: 41200720011

Status: Excess

Reasons: Within 2000 ft. of flammable or explosive material, Secured Area

Bldgs. 263, 419

Lawrence Livermore Natl Lab

Livermore, CA

Landholding Agency: Energy

Property Number: 41200720012

Status: Excess

Reasons: Within 2000 ft. of flammable or explosive material, Secured Area

Bldgs. 1401, 1402, 1404

Lawrence Livermore Natl Lab

Livermore, CA

Landholding Agency: Energy

Property Number: 41200720013

Status: Excess

Reasons: Within 2000 ft. of flammable or explosive material, Secured Area

Unsuitable Properties

Building

California

Bldgs. 1405, 1406, 1407

Lawrence Livermore Natl Lab

Livermore, CA

Landholding Agency: Energy

Property Number: 41200720014

Status: Excess

Reasons: Secured Area, Within 2000 ft. of flammable or explosive material

Bldgs. 1408, 1413, 1456

Lawrence Livermore Natl Lab

Livermore, CA

Landholding Agency: Energy

Property Number: 41200720015

Status: Excess

Reasons: Within 2000 ft. of flammable or explosive material, Secured Area

Bldg. 2684

Lawrence Livermore Natl Lab

Livermore, CA

Landholding Agency: Energy

Property Number: 41200720016

Status: Excess

Reasons: Secured Area, Within 2000 ft. of flammable or explosive material

Bldg. 2533

Marine Corps Base

Camp Pendleton, CA 92055

Landholding Agency: Navy

Property Number: 77200520005

Status: Excess

Reasons: Extensive deterioration, Secured Area

Unsuitable Properties

Building

California

Bldg. 13111

Marine Corps Base

Camp Pendleton, CA 92055

Landholding Agency: Navy

Property Number: 77200520006

Status: Excess

Reasons: Extensive deterioration, Secured Area

Bldgs. 53325, 53326

Marine Corps Base

Camp Pendleton, CA 92055

Landholding Agency: Navy

Property Number: 77200520007

Status: Excess

Reasons: Extensive deterioration, Secured Area

5 Bldgs.

Marine Corps Base

53421, 53424 thru 53427

Camp Pendleton, CA 92055

Landholding Agency: Navy

Property Number: 77200520008

Status: Excess

Reasons: Extensive deterioration, Secured Area

Unsuitable Properties

Building

California

Bldgs. 61311, 61313, 61314

Marine Corps Base

Camp Pendleton, CA 92055

Landholding Agency: Navy

Property Number: 77200520009

Status: Excess

Reasons: Extensive deterioration, Secured Area

Bldgs. 61320-61324, 61326

Marine Corps Base

Camp Pendleton, CA 92055

Landholding Agency: Navy

Property Number: 77200520010

Status: Excess

Reasons: Extensive deterioration, Secured Area

Bldgs. 62711 thru 62717

Marine Corps Base

Camp Pendleton, CA 92055

Landholding Agency: Navy

Property Number: 77200520011

Status: Excess

Reasons: Extensive deterioration, Secured Area

Bldgs. 4

Naval Submarine Base

Point Loma, CA

Landholding Agency: Navy

Property Number: 77200520014

Status: Unutilized

Reasons: Extensive deterioration

Unsuitable Properties

Building

California

Bldgs. 8915, 8931

Naval Weapons Station

Seal Beach, CA 90740

Landholding Agency: Navy

Property Number: 77200530004

Status: Excess

Reasons: Extensive deterioration

Bldgs. 11, 112

Naval Weapons Station

Seal Beach, CA 90740

Landholding Agency: Navy

Property Number: 77200530005

Status: Unutilized

Reasons: Extensive deterioration

Bldg. 805

Naval Weapons Station

Seal Beach, CA 90740

Landholding Agency: Navy

Property Number: 77200530006

Status: Unutilized

Reasons: Extensive deterioration

Bldgs. 810 thru 823

Naval Weapons Station

Seal Beach, CA 90740

Landholding Agency: Navy

Property Number: 77200530007

Status: Unutilized

Reasons: Extensive deterioration

Unsuitable Properties

Building

California

Bldgs. 851, 859, 864

Naval Weapons Station

Seal Beach, CA 90740

Landholding Agency: Navy

Property Number: 77200530008

Status: Unutilized

Reasons: Extensive deterioration

Bldg. 1146

Naval Base

Port Hueneme Co: Ventura, CA 93042

Landholding Agency: Navy

Property Number: 77200530009

Status: Unutilized

Reasons: Extensive deterioration

Bldgs. 1370, 1371, 1372

Naval Base

Port Hueneme Co: Ventura, CA 93042

Landholding Agency: Navy

Property Number: 77200530011

Status: Unutilized

Reasons: Extensive deterioration

Bldg. 115

Naval Base

San Diego, CA

Landholding Agency: Navy

Property Number: 77200530012

Status: Excess

Reasons: Extensive deterioration

Unsuitable Properties

Building

California

Bldg. 1674

Marine Corps Base

Camp Pendleton, CA 92055

Landholding Agency: Navy

Property Number: 77200530027

Status: Excess

Reasons: Extensive deterioration, Secured Area

Bldgs. 2636, 2651, 2658

Marine Corps Base

Camp Pendleton, CA 92055

Landholding Agency: Navy

Property Number: 77200530028

Status: Excess

Reasons: Extensive deterioration, Secured Area

4 Bldgs.

Marine Corps Base

Camp Pendleton, CA 92055

Landholding Agency: Navy

Property Number: 77200530029

Status: Excess

Directions: 26053, 26054, 26056, 26059

Reasons: Extensive deterioration, Secured Area

Unsuitable Properties

Building

California

Bldgs. 53333, 53334

Marine Corps Base

Camp Pendleton, CA 92055

Landholding Agency: Navy

Property Number: 77200530030

Status: Excess

Reasons: Extensive deterioration, Secured Area

Bldgs. 53507, 53569

Marine Corps Base

Camp Pendleton, CA 92055

Landholding Agency: Navy

Property Number: 77200530031

Status: Excess

Reasons: Secured Area, Extensive deterioration

Bldg. 170111

Marine Corps Base

Camp Pendleton, CA 92055

Landholding Agency: Navy

Property Number: 77200530032

Status: Excess

Reasons: Extensive deterioration, Secured Area

Bldg. PM4-3

Naval Base

Oxnard Co: Ventura, CA 93042

Landholding Agency: Navy

Property Number: 77200530033

Status: Unutilized

Reasons: Extensive deterioration

Unsuitable Properties

Building

California

Bldg. 1781

Marine Corps Base

Camp Pendleton, CA 92055

Landholding Agency: Navy

Property Number: 77200540001

Status: Excess

Reasons: Extensive deterioration, Secured Area

Bldgs. 398, 399, 404

Naval Base Point Loma

San Diego, CA

Landholding Agency: Navy

Property Number: 77200540003

Status: Unutilized

Reasons: Extensive deterioration

Bldgs. 388, 389, 390, 391

Naval Base Point Loma

San Diego, CA

Landholding Agency: Navy

Property Number: 77200540004

Status: Unutilized

Reasons: Extensive deterioration

Bldg. 16

Naval Submarine Base

San Diego, CA

Landholding Agency: Navy

Property Number: 77200540017

Status: Unutilized

Reasons: Extensive deterioration, Secured Area, Within 2000 ft. of flammable or explosive material

Unsuitable Properties

Building

California

Bldg. 325

Naval Base

Port Hueneme Co: Ventura, CA 93043

Landholding Agency: Navy

Property Number: 77200610001

Status: Unutilized

Reasons: Extensive deterioration, Secured Area, Within airport runway clear zone

Bldgs. 1647, 1648

Marine Corps Base

Camp Pendleton, CA 92055

Landholding Agency: Navy

Property Number: 77200610010

Status: Excess

Reasons: Extensive deterioration

Bldg. 1713

Marine Corps Base

Camp Pendleton, CA 92055

Landholding Agency: Navy

Property Number: 77200610011

Status: Excess

Reasons: Extensive deterioration

Bldg. 16171

Marine Corps Base

Camp Pendleton, CA 92055

Landholding Agency: Navy

Property Number: 77200610012

Status: Excess

Reasons: Extensive deterioration

Unsuitable Properties

Building

California

Bldg. 2100576

Marine Corps Base

Camp Pendleton, CA 92055

Landholding Agency: Navy

Property Number: 77200610013

Status: Excess

Reasons: Extensive deterioration

Bldg. 220189

Marine Corps Base

Camp Pendleton, CA 92055

Landholding Agency: Navy

Property Number: 77200610014

Status: Excess

Reasons: Extensive deterioration

Bldg. 2295

Marine Corps Base

Camp Pendleton, CA 92055

Landholding Agency: Navy

Property Number: 77200610015

Status: Excess

Reasons: Extensive deterioration

Bldgs. 22115, 22116, 22117

Marine Corps Base

Camp Pendleton, CA 92055

Landholding Agency: Navy

Property Number: 77200610016

Status: Excess

Reasons: Extensive deterioration

Unsuitable Properties

Building

California

Bldg. 143

Naval Air Station

Lemoore, CA

Landholding Agency: Navy

Property Number: 77200610017

Status: Excess

Reasons: Extensive deterioration

Bldgs. 213, 243, 273

Naval Air Station

Lemoore, CA

Landholding Agency: Navy

Property Number: 77200610018

Status: Excess

Reasons: Extensive deterioration

Bldg. 303

Naval Air Station

Lemoore, CA

Landholding Agency: Navy

Property Number: 77200610019

Status: Excess

Reasons: Extensive deterioration

Bldg. 471

Naval Air Station

Lemoore, CA

Landholding Agency: Navy

Property Number: 77200610020

Status: Excess

Reasons: Extensive deterioration

Unsuitable Properties

Building

California

Bldgs. 979, 928, 930

Naval Air Station

Lemoore, CA

Landholding Agency: Navy

Property Number: 77200610021

Status: Excess

Reasons: Extensive deterioration

Bldgs. 999, 1000

Naval Air Station

Lemoore, CA

Landholding Agency: Navy

Property Number: 77200610022

Status: Excess

Reasons: Extensive deterioration

Bldgs. 305, 353

Naval Base Point Loma

San Diego, CA

Landholding Agency: Navy

Property Number: 77200610023

Status: Unutilized

Reasons: Extensive deterioration

Bldgs. 358, 359, 360, 361

Naval Base Point Loma

San Diego, CA

Landholding Agency: Navy

Property Number: 77200610024

Status: Unutilized

Reasons: Extensive deterioration

Unsuitable Properties

Building

California

Bldg. 581

Naval Base Point Loma

San Diego, CA

Landholding Agency: Navy

Property Number: 77200610026

Status: Unutilized

Reasons: Extensive deterioration

Bldgs. A25, A27

Naval Base Point Loma

San Diego, CA

Landholding Agency: Navy

Property Number: 77200610027

Status: Unutilized

Reasons: Extensive deterioration

Bldgs. 31926, 31927, 31928

Marine Corps Base

Camp Pendleton, CA 92055

Landholding Agency: Navy

Property Number: 77200610058

Status: Excess

Reasons: Extensive deterioration

Bldg. 41326

Marine Corps Base

Camp Pendleton, CA 92055

Landholding Agency: Navy

Property Number: 77200610059

Status: Excess

Reasons: Extensive deterioration

Unsuitable Properties

Building

California

Bldg. 41816

Marine Corps Base

Camp Pendleton, CA 92055

Landholding Agency: Navy

Property Number: 77200610060

Status: Excess

Reasons: Extensive deterioration

Bldgs. 1468, 1469

Naval Base

Port Hueneme Co: Ventura, CA 93043

Landholding Agency: Navy

Property Number: 77200630002

Status: Unutilized

Reasons: Secured Area

Bldg. 30869

Naval Air Weapons Station

China Lake, CA 93555

Landholding Agency: Navy

Property Number: 77200630005

Status: Excess

Reasons: Extensive deterioration, Secured Area

Bldgs. 2-8, 3-10

Naval Base

Port Mugu Co: Ventura, CA 93043

Landholding Agency: Navy

Property Number: 77200630009

Status: Unutilized

Reasons: Extensive deterioration, Secured Area

Unsuitable Properties

Building

California

Bldgs. 6-11, 6-12, 6-819

Naval Base

Port Mugu Co: Ventura, CA 93043

Landholding Agency: Navy

Property Number: 77200630010

Status: Unutilized

Reasons: Extensive deterioration, Secured Area

Bldg. 85

Naval Base

Port Mugu Co: Ventura, CA 93043

Landholding Agency: Navy

Property Number: 77200630011

Status: Unutilized

Reasons: Extensive deterioration, Secured Area

Bldgs. 120, 123

Naval Base

Port Mugu Co: Ventura, CA 93043

Landholding Agency: Navy

Property Number: 77200630012

Status: Unutilized

Reasons: Secured Area, Extensive deterioration

Bldg. 724

Naval Base

Port Mugu Co: Ventura, CA 93043

Landholding Agency: Navy

Property Number: 77200630013

Status: Unutilized

Reasons: Secured Area, Extensive deterioration

Unsuitable Properties

Building

California

Bldg. 764

Naval Base

Port Mugu Co: Ventura, CA 93043

Landholding Agency: Navy

Property Number: 77200630014

Status: Unutilized

Reasons: Secured Area

Bldg. 115

Naval Base

Port Hueneme Co: Ventura, CA 93042

Landholding Agency: Navy

Property Number: 77200630015

Status: Unutilized

Reasons: Extensive deterioration, Secured Area

Bldg. 323

Naval Base

Port Hueneme Co: Ventura, CA 93042

Landholding Agency: Navy

Property Number: 77200630016

Status: Unutilized

Reasons: Extensive deterioration, Secured Area

Bldg. 488

Naval Base

Port Hueneme Co: Ventura, CA 93042

Landholding Agency: Navy

Property Number: 77200630017

Status: Unutilized

Reasons: Extensive deterioration, Secured Area

Unsuitable Properties

Building

California

Bldg. 842

Naval Base

Port Hueneme Co: Ventura, CA 93042

Landholding Agency: Navy

Property Number: 77200630018

Status: Unutilized

Reasons: Secured Area, Extensive deterioration

Bldg. 927

Naval Base

Port Hueneme Co: Ventura, CA 93042

Landholding Agency: Navy

Property Number: 77200630019

Status: Unutilized

Reasons: Extensive deterioration, Secured Area

Bldg. 1150

Naval Base

Port Hueneme Co: Ventura, CA 93042

Landholding Agency: Navy

Property Number: 77200630020

Status: Unutilized

Reasons: Extensive deterioration, Secured Area

Bldg. 1361

Naval Base

Port Hueneme Co: Ventura, CA 93042

Landholding Agency: Navy

Property Number: 77200630021

Status: Unutilized

Reasons: Extensive deterioration, Secured Area

Unsuitable Properties

Building

California

Bldg. PH546

Naval Base

Port Hueneme Co: Ventura, CA 93043

Landholding Agency: Navy

Property Number: 77200640027

Status: Unutilized

Reasons: Extensive deterioration, Secured Area

Bldg. PH425

Naval Base

Port Hueneme Co: Ventura, CA 93043

Landholding Agency: Navy

Property Number: 77200710001

Status: Unutilized

Reasons: Secured Area, Extensive deterioration

Bldg. PM 134

Naval Base

Point Mugu Co: Ventura, CA 93043

Landholding Agency: Navy

Property Number: 77200710023

Status: Unutilized

Reasons: Extensive deterioration, Secured Area

Bldgs. PH837, PH1372

Naval Base

Port Hueneme Co: Ventura, CA 93043

Landholding Agency: Navy

Property Number: 77200710024

Status: Unutilized

Reasons: Secured Area, Extensive deterioration

Unsuitable Properties

Building

California

Bldg. 523107

Marine Corps Base

Camp Pendleton, CA 92055

Landholding Agency: Navy

Property Number: 77200710025

Status: Excess

Reasons: Extensive deterioration

6 Bldgs.

Marine Corps Base

Camp Pendleton, CA 92055

Landholding Agency: Navy

Property Number: 77200710026

Status: Excess

Directions: 523112, 523113, 523114, 523115, 523116, 523117

Reasons: Extensive deterioration

6 Bldgs.

Marine Corps Base

Camp Pendleton, CA 92055

Landholding Agency: Navy

Property Number: 77200710027

Status: Excess

Directions: 523122, 523123, 523124, 523125, 523126, 523127

Reasons: Extensive deterioration

Unsuitable Properties

Building

California

6 Bldgs.

Marine Corps Base

Camp Pendleton, CA 92055

Landholding Agency: Navy

Property Number: 77200710028

Status: Excess

Directions: 523132, 523133, 523134, 523135, 523136, 523137

Reasons: Extensive deterioration

6 Bldgs.

Marine Corps Base

Camp Pendleton, CA 92055

Landholding Agency: Navy

Property Number: 77200710029

Status: Excess

Directions: 523142, 523143, 523144, 523145, 523146, 523147

Reasons: Extensive deterioration

Bldgs. 523156, 523157

Marine Corps Base

Camp Pendleton, CA 92055

Landholding Agency: Navy

Property Number: 77200710030

Status: Excess

Reasons: Extensive deterioration

Bldg. 30726

Naval Air Weapons

China Lake, CA 93555

Landholding Agency: Navy

Property Number: 77200710047

Status: Excess

Reasons: Secured Area

Unsuitable Properties

Building

California

Bldgs. PH284, PH339

Naval Base

Port Hueneme Co: Ventura, CA 93043

Landholding Agency: Navy

Property Number: 77200720001

Status: Unutilized

Reasons: Secured Area, Extensive deterioration

Bldgs. PH805, PH1179

Naval Base

Port Hueneme Co: Ventura, CA 93043

Landholding Agency: Navy

Property Number: 77200720002

Status: Unutilized

Reasons: Secured Area, Extensive deterioration

Bldgs. PH1207, PH1264, PH1288

Naval Base

Port Hueneme Co: Ventura, CA 93043

Landholding Agency: Navy

Property Number: 77200720003

Status: Unutilized

Reasons: Extensive deterioration, Secured Area

Bldgs. PM 3-53, PM129, PM402

Naval Base

Port Mugu Co: Ventura, CA 93043

Landholding Agency: Navy

Property Number: 77200720004

Status: Unutilized

Reasons: Extensive deterioration, Secured Area

Unsuitable Properties

Building

California

Bldg. LP908

Naval Base

Laguna Peak

Port Mugu Co: Ventura, CA 93043

Landholding Agency: Navy

Property Number: 77200720005

Status: Unutilized

Reasons: Extensive deterioration, Secured Area

Bldg. PM790

Naval Base

Oxnard, CA 93043

Landholding Agency: Navy

Property Number: 77200720006

Status: Unutilized

Reasons: Secured Area, Extensive deterioration

Bldg. 53402

Marine Corps Base

Camp Pendleton, CA 92055

Landholding Agency: Navy

Property Number: 77200720007

Status: Excess

Reasons: Extensive deterioration, Secured Area

Bldg. 307

Naval Base

San Diego, CA

Landholding Agency: Navy

Property Number: 77200720009

Status: Excess

Reasons: Secured Area

Unsuitable Properties

Building

California

Bldg. 3135

Naval Base

San Diego, CA

Landholding Agency: Navy

Property Number: 77200720010

Status: Excess

Reasons: Secured Area

Bldgs. 30727, 31409

Naval Air Weapons Station

China Lake, CA 93555

Landholding Agency: Navy

Property Number: 77200720011

Status: Excess

Reasons: Secured Area

Bldgs. 60142, 60158

Naval Base Coronado

San Clemente Island, CA

Landholding Agency: Navy

Property Number: 77200720012

Status: Unutilized

Reasons: Extensive deterioration, Not accessible by road

Bldgs. 60160, 60162, 60164

Naval Base Coronado

San Clemente Island, CA

Landholding Agency: Navy

Property Number: 77200720013

Status: Unutilized

Reasons: Extensive deterioration

Unsuitable Properties

Building

California

Bldgs. 60203, 60210, 60211

Naval Base Coronado

San Clemente Island, CA

Landholding Agency: Navy

Property Number: 77200720014

Status: Unutilized

Reasons: Extensive deterioration

Bldgs. 60214, 60215

Naval Base Coronado

San Clemente Island, CA

Landholding Agency: Navy

Property Number: 77200720015

Status: Unutilized

Reasons: Extensive deterioration

Bldgs. 60227, 60243, 60250

Naval Base Coronado

San Clemente Island, CA

Landholding Agency: Navy

Property Number: 77200720016

Status: Unutilized

Reasons: Extensive deterioration

Bldg. 60313

Naval Base Coronado

San Clemente Island, CA

Landholding Agency: Navy

Property Number: 77200720017

Status: Unutilized

Reasons: Extensive deterioration

Unsuitable Properties

Building

California

Bldg. 404

Naval Air Station

North Island, CA

Landholding Agency: Navy

Property Number: 77200720032

Status: Unutilized

Reasons: Extensive deterioration

Bldg. 3267

Naval Base

San Diego, CA

Landholding Agency: Navy

Property Number: 77200720039

Status: Unutilized

Reasons: Secured Area

Bldgs. 11090, 98033

Naval Air Weapons

China Lake, CA 93555

Landholding Agency: Navy

Property Number: 77200720054

Status: Excess

Reasons: Secured Area, Extensive deterioration

Bldgs. 41314, 41362

Marine Corps Base

Camp Pendleton, CA 92055

Landholding Agency: Navy

Property Number: 77200720055

Status: Excess

Reasons: Extensive deterioration

Unsuitable Properties

Building

California

Bldgs. 192, 193, 410

Naval Base

San Diego, CA

Landholding Agency: Navy

Property Number: 77200720063

Status: Excess

Reasons: Secured Area

Quarters/Garages

Lighthouse Station

Trinidad CA, 95570

Landholding Agency: Coast Guard

Property Number: 88200720001

Status: Unutilized

Reasons: Extensive deterioration

Connecticut

Bldgs. 25 and 26

Prospect Hill Road

Windsor Co: Hartford, CT 06095

Landholding Agency: Energy

Property Number: 41199440003

Status: Excess

Reasons: Secured Area

9 Bldgs.

Knolls Atomic Power Lab, Windsor Site

Windsor Co: Hartford, CT 06095

Landholding Agency: Energy

Property Number: 41199540004

Status: Excess

Reasons: Secured Area

Unsuitable Properties

Building

Connecticut

Bldg. 8, Windsor Site

Knolls Atomic Power Lab

Windsor Co: Hartford, CT 06095

Landholding Agency: Energy

Property Number: 41199830006

Status: Unutilized

Reasons: Extensive deterioration

District of Columbia

Bldg. 396

Naval Support Facility

Anacostia Annex, DC 20373

Landholding Agency: Navy

Property Number: 77200630008

Status: Unutilized

Reasons: Within 2000 ft. of flammable or explosive material, Secured Area

Florida

Bldg. U-150

Naval Air Station

Key West Co: Monroe, FL 33040

Landholding Agency: Navy

Property Number: 77200520044

Status: Excess

Reasons: Extensive deterioration, Secured Area

Unsuitable Properties

Building

Florida

Bldgs. V1221 A

Naval Air Station

Sigsbee Park

Key West Co: Monroe, FL 33040

Landholding Agency: Navy

Property Number: 77200530013

Status: Unutilized

Reasons: Secured Area, Extensive deterioration

Bldg. 969

Naval Air Station

Jacksonville Co: Duval, FL 32212

Landholding Agency: Navy

Property Number: 77200540014

Status: Unutilized

Reasons: Secured Area

Bldgs. 1759, 1760

Naval Air Station

Jacksonville Co: Duval, FL

Landholding Agency: Navy

Property Number: 77200540015

Status: Unutilized

Reasons: Secured Area

Bldg. 1917

Naval Air Station

Jacksonville Co: Duval, FL 32212

Landholding Agency: Navy

Property Number: 77200540016

Status: Unutilized

Reasons: Secured Area

Unsuitable Properties

Building

Florida

Bldgs. 1, 2

Naval Station

Mayport Co: Duval, FL 32228

Landholding Agency: Navy

Property Number: 77200540018

Status: Excess

Reasons: Extensive deterioration, Secured Area, Floodway

Bldg. 24

Naval Station

Mayport Co: Duval, FL 32228

Landholding Agency: Navy

Property Number: 77200540019

Status: Excess

Reasons: Floodway, Secured Area, Extensive deterioration

Bldg. 66

Naval Station

Mayport Co: Duval, FL 32228

Landholding Agency: Navy

Property Number: 77200540020

Status: Excess

Reasons: Extensive deterioration, Secured Area, Floodway

Unsuitable Properties

Building

Florida

Bldg. 216

Naval Station

Mayport Co: Duval, FL 32228

Landholding Agency: Navy

Property Number: 77200540021

Status: Excess

Reasons: Floodway, Secured Area, Extensive deterioration

Bldgs. 437, 450

Naval Station

Mayport Co: Duval, FL 32228

Landholding Agency: Navy

Property Number: 77200540022

Status: Excess

Reasons: Extensive deterioration, Floodway, Secured Area

Bldgs. 1234, 1235

Naval Station

Mayport Co: Duval, FL 32228

Landholding Agency: Navy

Property Number: 77200540023

Status: Excess

Reasons: Floodway, Secured Area, Extensive deterioration

Unsuitable Properties

Building

Florida

Bldg. 212

Naval Station

Mayport Co: Duval, FL 32228

Landholding Agency: Navy

Property Number: 77200620011

Status: Unutilized

Reasons: Floodway, Extensive deterioration, Secured Area

Bldg. 508

Naval Station

Mayport, FL 32228

Landholding Agency: Navy

Property Number: 77200620035

Status: Unutilized

Reasons: Floodway, Secured Area

Bldg. 834

Naval Air Station

Pensacola Co: Escambia, FL 32508

Landholding Agency: Navy

Property Number: 77200630022

Status: Unutilized

Reasons: Extensive deterioration

Bldg. 2658

Naval Air Station

Pensacola Co: Escambia, FL 32508

Landholding Agency: Navy

Property Number: 77200630023

Status: Unutilized

Reasons: Extensive deterioration

Unsuitable Properties

Building

Florida

Bldg. 3483

Naval Air Station

Pensacola Co: Escambia, FL 32508

Landholding Agency: Navy

Property Number: 77200630024

Status: Unutilized

Reasons: Extensive deterioration

Bldg. 6144

Naval Air Station

Pensacola Co: Escambia, FL 32508

Landholding Agency: Navy

Property Number: 77200630025

Status: Unutilized

Reasons: Extensive deterioration

Bldg. F11

Naval Air Station

Key West, FL 33040

Landholding Agency: Navy

Property Number: 77200630026

Status: Unutilized

Reasons: Extensive deterioration, Secured Area

Bldgs. A225, A409

Naval Air Station

Key West, FL 33040

Landholding Agency: Navy

Property Number: 77200630027

Status: Unutilized

Reasons: Extensive deterioration, Secured Area

Unsuitable Properties

Building

Florida

Bldg. A515

Naval Air Station

Key West, FL 33040

Landholding Agency: Navy

Property Number: 77200630028

Status: Unutilized

Reasons: Extensive deterioration, Secured Area

Bldg. A635

Naval Air Station

Key West, FL 33040

Landholding Agency: Navy

Property Number: 77200630029

Status: Unutilized

Reasons: Extensive deterioration, Secured Area

Bldgs. A993, A994

Naval Air Station

Key West, FL 33040

Landholding Agency: Navy

Property Number: 77200630030

Status: Unutilized

Reasons: Secured Area, Extensive deterioration

Bldg. A1068

Naval Air Station

Key West, FL 33040

Landholding Agency: Navy

Property Number: 77200630031

Status: Unutilized

Reasons: Extensive deterioration, Secured Area

Unsuitable Properties

Building

Florida

Bldg. A4021

Naval Air Station

Key West, FL 33040

Landholding Agency: Navy

Property Number: 77200630032

Status: Unutilized

Reasons: Extensive deterioration, Secured Area

Bldg. 4080

Naval Air Station

Key West, FL 33040

Landholding Agency: Navy

Property Number: 77200630033

Status: Unutilized

Reasons: Secured Area, Extensive deterioration

Georgia

Bldg. 5101

Naval Submarine Base

Kings Bay Co: Camden, GA 31547

Landholding Agency: Navy

Property Number: 77200520004

Status: Unutilized

Reasons: Floodway, Extensive deterioration, Secured Area

Unsuitable Properties

Building

Georgia

Bldg. 0038

Naval Submarine Base

Kings Bay, GA 31547

Landholding Agency: Navy

Property Number: 77200620036

Status: Unutilized

Reasons: Extensive deterioration, Secured Area

7 Bldgs.

Marine Logistics Base

Albany, GA

Landholding Agency: Navy

Property Number: 77200720040

Status: Excess

Directions: 7100, 7106, 7108, 7110, 5584, 7964, 7966

Reasons: Secured Area

Guam

Bldg. B-32

Naval Forces

Marianas, GU

Landholding Agency: Navy

Property Number: 77200520023

Status: Unutilized

Reasons: Extensive deterioration

Unsuitable Properties

Building

Guam

Bldgs. 76, 77, 79

Naval Forces

Marianas, GU

Landholding Agency: Navy

Property Number: 77200520024

Status: Unutilized

Reasons: Extensive deterioration

4 Bldgs.

Naval Forces 261, 262, 263, 269

Marianas, GU

Landholding Agency: Navy

Property Number: 77200520025

Status: Unutilized

Reasons: Extensive deterioration

Bldg. 404NM

Naval Forces

Marianas, GU

Landholding Agency: Navy

Property Number: 77200520026

Status: Unutilized

Reasons: Extensive deterioration

Bldgs. 3150, 3268

Naval Forces

Marianas, GU

Landholding Agency: Navy

Property Number: 77200520030

Status: Unutilized

Reasons: Extensive deterioration

Unsuitable Properties

Building

Guam

Bldgs. 5409, 5412, 5413

Naval Forces

Marianas, GU

Landholding Agency: Navy

Property Number: 77200520031

Status: Unutilized

Reasons: Extensive deterioration

Bldg. 5500

Naval Forces

Marianas, GU

Landholding Agency: Navy

Property Number: 77200520032

Status: Unutilized

Reasons: Extensive deterioration

73 Bldgs.

Naval Computer Station

Marianas, GU

Landholding Agency: Navy

Property Number: 77200520045

Status: Excess

Directions: A700-A716, A725, A728, A735, A741-A784, A803-A805, A811-A813, A829-A831

Reasons: Extensive deterioration, Secured Area

Bldgs. 2006, 2009

Naval Ship Repair Facility

Marianas, GU

Landholding Agency: Navy

Property Number: 77200520048

Status: Excess

Reasons: Extensive deterioration, Secured Area

Unsuitable Properties

Building

Guam

Bldgs. 2014, 2916

Naval Ship Repair Facility

Marianas, GU

Landholding Agency: Navy

Property Number: 77200520049

Status: Excess

Reasons: Extensive deterioration, Secured Area

Bldgs. 277, 308

Naval Forces Marianas

Santa Rita Co: Apra Harbor, GU

Landholding Agency: Navy

Property Number: 77200610028

Status: Excess

Reasons: Secured Area

Bldgs. 1686, 1689, 1690

Naval Forces Marianas

Santa Rita Co: Apra Harbor, GU

Landholding Agency: Navy

Property Number: 77200610029

Status: Excess

Reasons: Secured Area

Bldgs. 1714, 1767, 1768

Naval Forces Marianas

Santa Rita Co: Apra Harbor, GU

Landholding Agency: Navy

Property Number: 77200610030

Status: Excess

Reasons: Secured Area

Unsuitable Properties

Building

Guam

Bldgs. 1771, 1772, 1773

Naval Forces Marianas

Santa Rita Co: Apra Harbor, GU

Landholding Agency: Navy

Property Number: 77200610031

Status: Excess

Reasons: Secured Area

Bldgs. 1791, 1792

Naval Forces Marianas

Santa Rita Co: Apra Harbor, GU

Landholding Agency: Navy

Property Number: 77200610032

Status: Excess

Reasons: Secured Area

Bldgs. 3000, 3001

Naval Forces Marianas

Santa Rita Co: Apra Harbor, GU

Landholding Agency: Navy

Property Number: 77200610033

Status: Excess

Reasons: Secured Area

Bldgs. 3002, 3004, 3005

Naval Forces Marianas

Santa Rita Co: Apra Harbor, GU

Landholding Agency: Navy

Property Number: 77200610034

Status: Excess

Reasons: Secured Area

Unsuitable Properties

Building

Guam

Bldgs. 3006, 3007

Naval Forces Marianas

Santa Rita Co: Apra Harbor, GU

Landholding Agency: Navy

Property Number: 77200610035

Status: Excess

Reasons: Secured Area

Steam Plant

Naval Forces Marianas

Santa Rita Co: Apra Harbor, GU

Landholding Agency: Navy

Property Number: 77200610036

Status: Excess

Reasons: Secured Area

Bldgs. 403, 404

Marianas Support Activity

Santa Rita Co: Naval Magazine, GU

Landholding Agency: Navy

Property Number: 77200620013

Status: Unutilized

Reasons: Secured Area

Bldgs. 464, 729

Marianas Support Activity

Santa Rita Co: Naval Magazine, GU

Landholding Agency: Navy

Property Number: 77200620014

Status: Unutilized

Reasons: Secured Area

Unsuitable Properties

Building

Guam

Bldgs. 836, 837

Marianas Support Activity

Santa Rita Co: Naval Magazine, GU

Landholding Agency: Navy

Property Number: 77200620015

Status: Unutilized

Reasons: Extensive deterioration, Secured Area

Bldg. 11XC7

Marianas Support Activity

Santa Rita Co: Naval Magazine, GU

Landholding Agency: Navy

Property Number: 77200620016

Status: Unutilized

Reasons: Secured Area, Extensive deterioration

Bldgs. 23YC1, 23YC2, 23YC3

Marianas Support Activity

Santa Rita Co: Naval Magazine, GU

Landholding Agency: Navy

Property Number: 77200620017

Status: Unutilized

Reasons: Extensive deterioration, Secured Area

Bldgs. 23YC4, 23YC5

Marianas Support Activity

Santa Rita Co: Naval Magazine, GU

Landholding Agency: Navy

Property Number: 77200620018

Status: Unutilized

Reasons: Extensive deterioration, Secured Area

Unsuitable Properties

Building

Guam

Bldgs. 24YC7, 24YC8

Marianas Support Activity

Santa Rita Co: Naval Magazine, GU

Landholding Agency: Navy

Property Number: 77200620019

Status: Unutilized

Reasons: Extensive deterioration, Secured Area

Bldgs. 26YC3, 26YC5

Marianas Support Activity

Santa Rita Co: Naval Magazine, GU

Landholding Agency: Navy

Property Number: 77200620020

Status: Unutilized

Reasons: Secured Area, Extensive deterioration

Old Bus Stop

Marianas Support Activity

Santa Rita Co: Naval Magazine, GU

Landholding Agency: Navy

Property Number: 77200620021

Status: Unutilized

Reasons: Extensive deterioration, Secured Area

2 Guard Houses

Marianas Support Activity

Santa Rita Co: Naval Magazine, GU

Landholding Agency: Navy

Property Number: 77200620022

Status: Unutilized

Reasons: Secured Area, Extensive deterioration

Unsuitable Properties

Building

Guam

9 Magazines

Marianas Support Activity

Santa Rita Co: Naval Magazine, GU

Landholding Agency: Navy

Property Number: 77200620023

Status: Unutilized

Reasons: Extensive deterioration, Secured Area

Bldgs. 151, 152, 153

Naval Forces Marianas

Santa Rita Co: Apra Harbor, GU

Landholding Agency: Navy

Property Number: 77200630001

Status: Unutilized

Reasons: Extensive deterioration

Bldg. 4

Naval Base

Barrigada, GU

Landholding Agency: Navy

Property Number: 77200710002

Status: Unutilized

Reasons: Extensive deterioration

Bldg. C115

Naval Base

Barrigada, GU

Landholding Agency: Navy

Property Number: 77200710003

Status: Unutilized

Reasons: Extensive deterioration

Unsuitable Properties

Building

Guam

Bldg. 160

Naval Base

Barrigada, GU

Landholding Agency: Navy

Property Number: 77200710004

Status: Unutilized

Reasons: Extensive deterioration

Bldg. 176

Naval Base

Barrigada, GU

Landholding Agency: Navy

Property Number: 77200710005

Status: Unutilized

Reasons: Extensive deterioration

Bldg. 33

Naval Base

Santa Rita Co: Apra Harbor, GU

Landholding Agency: Navy

Property Number: 77200710006

Status: Excess

Reasons: Extensive deterioration

Bldg. 219

Naval Base

Santa Rita Co: Apra Harbor, GU

Landholding Agency: Navy

Property Number: 77200710007

Status: Excess

Reasons: Extensive deterioration

Unsuitable Properties

Building

Guam

Bldg. 950

Naval Base

Santa Rita Co: Apra Harbor, GU

Landholding Agency: Navy

Property Number: 77200710008

Status: Excess

Reasons: Extensive deterioration

Bldg. 1769

Naval Base

Santa Rita Co: Apra Harbor, GU

Landholding Agency: Navy

Property Number: 77200710009

Status: Excess

Reasons: Extensive deterioration

Bldgs. 3186, 3187, 3188

Naval Base

Santa Rita Co: Apra Harbor, GU

Landholding Agency: Navy

Property Number: 77200710010

Status: Excess

Reasons: Extensive deterioration

Bldgs. 4408, 4409

Naval Base

Santa Rita Co: Apra Harbor, GU

Landholding Agency: Navy

Property Number: 77200710011

Status: Excess

Reasons: Extensive deterioration

Unsuitable Properties

Building

Guam

Hazmat Storage

Naval Base

Polaris Point

Santa Rita Co: Apra Harbor GU

Landholding Agency: Navy

Property Number: 77200710012

Status: Excess

Reasons: Extensive deterioration

Storage Bldg.

Naval Base

Polaris Point

Santa Rita Co: Apra Harbor GU

Landholding Agency: Navy

Property Number: 77200710013

Status: Excess

Reasons: Extensive deterioration

Hawaii

Bldg. 346

Naval Station

Pearl Harbor, HI 96860

Landholding Agency: Navy

Property Number: 77200610002

Status: Excess

Reasons:

Extensive deterioration

Bldg. 408

Naval Station

Pearl Harbor, HI 96860

Landholding Agency: Navy

Property Number: 77200720058

Status: Excess

Reasons: Extensive deterioration

Unsuitable Properties

Building

Idaho

Bldg. CPP-691

Idaho National Engineering Laboratory

Scoville Co: Butte, ID 83415

Landholding Agency: Energy

Property Number: 41199610003

Status: Unutilized

Reasons: Secured Area

Bldg. TRA-669

Idaho National Engineering Laboratory

Scoville Co: Butte, ID 83415

Landholding Agency: Energy

Property Number: 41199610013

Status: Unutilized

Reasons: Secured Area

Bldg. TRA-673

Idaho National Engineering Laboratory

Scoville Co: Butte, ID 83415

Landholding Agency: Energy

Property Number: 41199610018

Status: Unutilized

Reasons: Secured Area

Bldg. PBF-620

Idaho National Engineering Laboratory

Scoville Co: Butte, ID 83415

Landholding Agency: Energy

Property Number: 41199610019

Status: Unutilized

Reasons: Secured Area

Unsuitable Properties

Building

Idaho

Bldg. PBF-619

Idaho National Engineering Laboratory

Scoville Co: Butte, ID 83415

Landholding Agency: Energy

Property Number: 41199610022

Status: Unutilized

Reasons: Secured Area

Bldg. TRA-641

Idaho National Engineering Laboratory

Scoville Co: Butte, ID 83415

Landholding Agency: Energy

Property Number: 41199610034

Status: Unutilized

Reasons: Secured Area

Bldg. CF-606

Idaho National Engineering Laboratory

Scoville Co: Butte, ID 83415

Landholding Agency: Energy

Property Number: 41199610037

Status: Unutilized

Reasons: Secured Area

Bldgs. CPP638, CPP642

Idaho Natl Eng Lab

Scoville Co: Butte, ID 83415

Landholding Agency: Energy

Property Number: 41200410014

Status: Excess

Reasons: Secured Area

Unsuitable Properties

Building

Idaho

Bldg. CPP 743

Idaho Natl Eng lab

Scoville Co: Butte, ID 83-415

Landholding Agency: Energy

Property Number: 41200410020

Status: Excess

Reasons: Secured Area

Bldgs. CPP1647, 1653

Idaho Natl Eng Lab

Scoville Co: Butte, ID 83415

Landholding Agency: Energy

Property Number: 41200410022

Status: Excess

Reasons: Secured Area

Bldg. CPP1677

Idaho Natl Eng Lab

Scoville Co: Butte, ID 83415

Landholding Agency: Energy

Property Number: 41200410023

Status: Excess

Reasons: Secured Area

Bldg. 694

Idaho Natl Eng Lab

Scoville Co: Butte, ID 83415

Landholding Agency: Energy

Property Number: 41200410034

Status: Excess

Reasons:

Secured Area

Unsuitable Properties

Building

Idaho

Bldgs. CPP1604-CPP1608

Idaho National Eng Lab

Scoville Co: Butte, ID 83415

Landholding Agency: Energy

Property Number: 41200430071

Status: Excess

Reasons: Secured Area

Bldgs. CPP1617-CPP1619

Idaho National Eng Lab

Scoville Co: Butte, ID 83415

Landholding Agency: Energy

Property Number: 41200430072

Status: Excess

Reasons: Secured Area

6 Bldgs.

Idaho National Eng Lab

Scoville Co: Butte, ID 83415

Landholding Agency: Energy

Property Number: 41200430073

Status: Excess

Directions: CPP1631, CPP1634, CPP1635, CPP1636, CPP1637, CPP1638

Reasons: Secured Area

5 Bldgs.

Idaho National Eng Lab

Scoville Co: Butte, ID 83415

Landholding Agency: Energy

Property Number: 41200430074

Status: Excess

Directions: CPP1642, CPP1643, CPP1644, CPP1646, CPP1649

Reasons: Secured Area

Unsuitable Properties

Building

Idaho

3 Bldgs.

Idaho National Eng Lab

Scoville Co: Butte, ID 83415

Landholding Agency: Energy

Property Number: 41200430075

Status: Excess

Directions: CPP1650, CPP1651, CPP1656

Reasons: Secured Area

5 Bldgs.

Idaho National Eng Lab

Scoville Co: Butte, ID 83415

Landholding Agency: Energy

Property Number: 41200430076

Status: Excess

Directions: CPP1662, CPP1663, CPP1671, CPP1673, CPP1674

Reasons: Secured Area

5 Bldgs.

Idaho National Eng Lab

Scoville Co: Butte, ID 83415

Landholding Agency: Energy

Property Number: 41200430077

Status: Excess

Directions: CPP1678, CPP1682, CPP1683, CPP1684, CPP1686

Reasons: Secured Area

Unsuitable Properties

Building

Idaho

5 Bldgs.

Idaho National Eng Lab

Scoville Co: Butte, ID 83415

Landholding Agency: Energy

Property Number: 41200430078

Status: Excess

Directions: CPP1713, CPP1749, CPP1750, CPP1767, CPP1769

Reasons: Secured Area

5 Bldgs.

Idaho National Eng Lab

Scoville Co: Butte, ID 83415

Landholding Agency: Energy

Property Number: 41200430079

Status: Excess

Directions: CPP1770, CPP1771, CPP1772, CPP1774, CPP1776

Reasons: Secured Area

4 Bldgs.

Idaho National Eng Lab

Scoville Co: Butte, ID 83415

Landholding Agency: Energy

Property Number: 41200430081

Status: Excess

Directions: CPP1789, CPP1790, CPP1792, CPP1794

Reasons: Secured Area

Unsuitable Properties

Building

Idaho

Bldgs. CPP2701, CPP2706

Idaho National Eng Lab

Scoville Co: Butte, ID 83415

Landholding Agency: Energy

Property Number: 41200430082

Status: Excess

Reasons: Secured Area

3 Bldgs.

Idaho National Eng Lab

Scoville Co: Butte, ID 83415

Landholding Agency: Energy

Property Number: 41200430089

Status: Excess

Directions: TRA603, TRA604, TRA610

Reasons: Secured Area

Bldg. TAN611

Idaho National Eng Lab

Scoville Co: Butte, ID 83415

Landholding Agency: Energy

Property Number: 41200430090

Status: Excess

Reasons: Secured Area

5 Bldgs.

Idaho National Eng Lab

Scoville Co: Butte, ID 83415

Landholding Agency: Energy

Property Number: 41200430091

Status: Excess

Directions: TRA626, TRA635, TRA642, TRA648, TRA654

Reasons: Secured Area

Unsuitable Properties

Building

Idaho

Bldg. TAN655

Idaho National Eng Lab

Scoville Co: Butte, ID 83415

Landholding Agency: Energy

Property Number: 41200430092

Status: Excess

Reasons: Secured Area

3 Bldgs.

Idaho National Eng Lab

Scoville Co: Butte, ID 83415

Landholding Agency: Energy

Property Number: 41200430093

Status: Excess

Directions: TRA657, TRA661, TRA668

Reasons: Secured Area

Bldg. TAN711

Idaho National Eng Lab

Scoville Co: Butte, ID 83415

Landholding Agency: Energy

Property Number: 41200430094

Status: Excess

Reasons: Secured Area

6 Bldgs.

Idaho National Eng Lab

Scoville Co: Butte, ID 83415

Landholding Agency: Energy

Property Number: 41200430095

Status: Excess

Directions: CPP602-CPP606, CPP609

Reasons: Secured Area

Unsuitable Properties

Building

Idaho

5 Bldgs.

Idaho National Eng Lab

Scoville Co: Butte, ID 83415

Landholding Agency: Energy

Property Number: 41200430096

Status: Excess

Directions: CPP611-CPP614, CPP616

Reasons: Secured Area

4 Bldgs.

Idaho National Eng Lab

Scoville Co: Butte, ID 83415

Landholding Agency: Energy

Property Number: 41200430097

Status: Excess

Directions: CPP621, CPP626, CPP630, CPP639

Reasons: Secured Area

4 Bldgs.

Idaho National Eng Lab

Scoville Co: Butte, ID 83415

Landholding Agency: Energy

Property Number: 41200430098

Status: Excess

Directions: CPP641, CPP644, CPP645, CPP649

Reasons: Secured Area

Unsuitable Properties

Building

Idaho

Bldgs. CPP651-CPP655

Idaho National Eng Lab

Scoville Co: Butte, ID 83415

Landholding Agency: Energy

Property Number: 41200430099

Status: Excess

Reasons: Secured Area

Bldgs. CPP659-CPP663

Idaho National Eng Lab

Scoville Co: Butte, ID 83415

Landholding Agency: Energy

Property Number: 41200440001

Status: Excess

Reasons: Secured Area

Bldgs. CPP666, CPP668

Idaho National Eng Lab

Scoville Co: Butte, ID 83415

Landholding Agency: Energy

Property Number: 41200440002

Status: Excess

Reasons: Secured Area

1 Bldgs.

Idaho National Eng Lab

Scoville Co: Butte, ID 83415

Landholding Agency: Energy

Property Number: 41200440004

Status: Excess

Directions: CPP684

Reasons: Secured Area

Unsuitable Properties

Building

Idaho

5 Bldgs.

Idaho National Eng Lab

Scoville Co: Butte, ID 83415

Landholding Agency: Energy

Property Number: 41200440005

Status: Excess

Directions: CPP692, CPP694, CPP697-CPP699

Reasons: Secured Area

3 Bldgs.

Idaho National Eng Lab

Scoville Co: Butte, ID 83415

Landholding Agency: Energy

Property Number: 41200440006

Status: Excess

Directions: CPP701, CPP701A, CPP708

Reasons: Secured Area

Bldgs. 711, 719A

Idaho National Eng Lab

Scoville Co: Butte, ID 83415

Landholding Agency: Energy

Property Number: 41200440007

Status: Excess

Reasons: Secured Area

Unsuitable Properties

Building

Idaho

4 Bldgs.

Idaho National Eng Lab

Scoville Co: Butte, ID 83415

Landholding Agency: Energy

Property Number: 41200440008

Status: Excess

Directions: CPP724-CPP726, CPP728

Reasons: Secured Area

Bldg. CPP729/741

Idaho National Eng Lab

Scoville Co: Butte, ID 83415

Landholding Agency: Energy

Property Number: 41200440012

Status: Excess

Reasons: Secured Area

Bldgs. CPP733, CPP736

Idaho National Eng Lab

Scoville Co: Butte, ID 83415

Landholding Agency: Energy

Property Number: 41200440013

Status: Excess

Reasons: Secured Area

Bldgs. CPP740, CPP742

Idaho National Eng Lab

Scoville Co: Butte, ID 83415

Landholding Agency: Energy

Property Number: 41200440014

Status: Excess

Reasons: Secured Area

Unsuitable Properties

Building

Idaho

Bldgs. CPP746, CPP748

Idaho National Eng Lab

Scoville Co: Butte, ID 83415

Landholding Agency: Energy

Property Number: 41200440015

Status: Excess

Reasons: Secured Area

3 Bldgs.

Idaho National Eng Lab

CPP750, CPP751, CPP752

Scoville Co: Butte, ID 83415

Landholding Agency: Energy

Property Number: 41200440016

Status: Excess

Reasons: Secured Area

3 Bldgs.

Idaho National Eng Lab

CPP753, CPP753A, CPP754

Scoville Co: Butte, ID 83415

Landholding Agency: Energy

Property Number: 41200440017

Status: Excess

Reasons: Secured Area

Bldgs. CPP760, CPP763

Idaho National Eng Lab

Scoville Co: Butte, ID 83415

Landholding Agency: Energy

Property Number: 41200440018

Status: Excess

Reasons: Secured Area

Unsuitable Properties

Building

Idaho

Bldgs. CPP764, CPP765

Idaho National Eng Lab

Scoville Co: Butte, ID 83415

Landholding Agency: Energy

Property Number: 41200440019

Status: Excess

Reasons: Secured Area

Bldgs. CPP767, CPP768

Idaho National Eng Lab

Scoville Co: Butte, ID 83415

Landholding Agency: Energy

Property Number: 41200440020

Status: Excess

Reasons: Secured Area

Bldgs. CPP791, CPP795

Idaho National Eng Lab

Scoville Co: Butte, ID 83415

Landholding Agency: Energy

Property Number: 41200440021

Status: Excess

Reasons: Secured Area

3 Bldgs.

Idaho National Eng Lab

CPP796, CPP797, CPP799

Scoville Co: Butte, ID 83415

Landholding Agency: Energy

Property Number: 41200440022

Status: Excess

Reasons: Secured Area

Unsuitable Properties

Building

Idaho

Bldgs. CPP701B, CPP719

Idaho National Eng Lab

Scoville Co: Butte, ID 83415

Landholding Agency: Energy

Property Number: 41200440023

Status: Excess

Reasons: Secured Area

Bldgs. CPP720A, CPP720B

Idaho National Eng Lab

Scoville Co: Butte, ID 83415

Landholding Agency: Energy

Property Number: 41200440024

Status: Excess

Reasons: Secured Area

Bldg. CPP1781

Idaho National Eng Lab

Scoville Co: Butte, ID 83415

Landholding Agency: Energy

Property Number: 41200440025

Status: Excess

Reasons: Secured Area

2 Bldgs.

Idaho National Eng Lab

CPP0000VES-UTI-111, VES-UTI-112

Scoville Co: Butte, ID 83415

Landholding Agency: Energy

Property Number: 41200440026

Status: Excess

Reasons: Secured Area

Unsuitable Properties

Building

Idaho

Bldgs. TAN704, TAN733

Idaho National Eng Lab

Scoville Co: Butte, ID 83415

Landholding Agency: Energy

Property Number: 41200440028

Status: Excess

Reasons: Secured Area

Bldgs. TAN1611, TAN1614

Idaho National Eng Lab

Scoville Co: Butte, ID 83415

Landholding Agency: Energy

Property Number: 41200440029

Status: Excess

Reasons: Secured Area

Bldg. CF633

Idaho Natl Laboratory

Scoville Co: Butte, ID 83415

Landholding Agency: Energy

Property Number: 41200520005

Status: Excess

Reasons: Extensive deterioration

Unsuitable Properties

Building

Illinois

Bldgs. 306A, B, C, TR-5

Argonne National Lab

Argonne, IL 60439

Landholding Agency: Energy

Property Number: 41200720017

Status: Excess

Reasons: Secured Area

Bldg. 42

Naval Station

Great Lakes, IL 60088

Landholding Agency: Navy

Property Number: 77200520055

Status: Excess

Reasons: Extensive deterioration, Secured Area

Bldgs. 25

Naval Station

Great Lakes, IL 60088

Landholding Agency: Navy

Property Number: 77200530001

Status: Excess

Reasons: Extensive deterioration

Bldg. 42

Naval Station

Great Lakes, IL 60088

Landholding Agency: Navy

Property Number: 77200530014

Status: Excess

Reasons: Extensive deterioration, Secured Area

Unsuitable Properties

Building

Illinois

Bldg. 2C

Naval Station

Great Lakes, IL 60088-2900

Landholding Agency: Navy

Property Number: 77200540005

Status: Excess

Reasons: Secured Area

Bldg. 3312

Naval Station

Great Lakes, IL 60085

Landholding Agency: Navy

Property Number: 77200640028

Status: Excess

Reasons: Secured Area

Bldg. 220

Naval Station

Great Lakes, IL 60085

Landholding Agency: Navy

Property Number: 77200640029

Status: Excess

Reasons: Secured Area

Bldg. B-912

Naval Station

Great Lakes, IL 60088

Landholding Agency: Navy

Property Number: 77200710042

Status: Excess

Reasons: Secured Area

Unsuitable Properties

Building

Indiana

Bldgs. 1871, 2636

Naval Support Activity

Crane Co: Martin, IN 47522

Landholding Agency: Navy

Property Number: 77200530015

Status: Unutilized

Reasons: Within 2000 ft. of flammable or explosive material, Extensive deterioration, Secured Area

Bldg. 1820

Naval Support Activity

Crane Co: Martin, IN 47522

Landholding Agency: Navy

Property Number: 77200540028

Status: Unutilized

Reasons: Extensive deterioration

Bldg. 2694

Naval Support Activity

Crane Co: Martin, IN 47522

Landholding Agency: Navy

Property Number: 77200540029

Status: Unutilized

Reasons: Extensive deterioration

Bldg. 2796

Naval Support Activity

Crane Co: Martin, IN 47522

Landholding Agency: Navy

Property Number: 77200620001

Status: Unutilized

Reasons: Within 2000 ft. of flammable or explosive material, Secured Area, Extensive deterioration

Unsuitable Properties

Building

Maryland

Bldg. 84NS

Naval Support Activity

Annapolis Co: Anne Arundel, MD 21402

Landholding Agency: Navy

Property Number: 77200610038

Status: Unutilized

Reasons: Within 2000 ft. of flammable or explosive material, Floodway

Bldg. 2075

Naval Surface Warfare

Indian Head, MD

Landholding Agency: Navy

Property Number: 77200630043

Status: Excess

Reasons: Extensive deterioration

Michigan

Admin. Bldg.

Station Saginaw River

Essexville Co: Bay, MI 48732

Landholding Agency: Coast Guard

Property Number: 88200510001

Status: Unutilized

Reasons: Extensive deterioration, Secured Area

Unsuitable Properties

Building

Mississippi

Bldg. 9

Construction Battalion Center

Gulfport, MS

Landholding Agency: Navy

Property Number: 77200610039

Status: Unutilized

Reasons: Extensive deterioration, Secured Area

Bldgs. 22, 27, 41

Construction Battalion Center

Gulfport, MS

Landholding Agency: Navy

Property Number: 77200610040

Status: Unutilized

Reasons: Secured Area, Extensive deterioration

Bldgs. 108, 181, 183

Construction Battalion Center

Gulfport, MS

Landholding Agency: Navy

Property Number: 77200610041

Status: Unutilized

Reasons: Extensive deterioration, Secured Area

Bldg. 201

Construction Battalion Center

Gulfport, MS

Landholding Agency: Navy

Property Number: 77200610042

Status: Unutilized

Reasons: Extensive deterioration, Secured Area

Unsuitable Properties

Building

Mississippi

Bldgs. 270, 270A-1, 270A-2

Construction Battalion Center

Gulfport, MS

Landholding Agency: Navy

Property Number: 77200610043

Status: Unutilized

Reasons: Extensive deterioration, Secured Area

Bldgs. 375, 420

Construction Battalion Center

Gulfport, MS

Landholding Agency: Navy

Property Number: 77200610044

Status: Unutilized

Reasons: Extensive deterioration, Secured Area

Bldgs. 95, 96

Naval Air Station

Meridian, MS 39309

Landholding Agency: Navy

Property Number: 77200720046

Status: Unutilized

Reasons: Secured Area, Within airport runway clear zone, Within 2000 ft. of flammable or explosive material

Bldg. 167

Naval Air Station

Meridian, MS 39309

Landholding Agency: Navy

Property Number: 77200720047

Status: Unutilized

Reasons: Secured Area

Unsuitable Properties

Building

Mississippi

Bldgs. 212, 228

Naval Air Station

Meridian, MS 39309

Landholding Agency: Navy

Property Number: 77200720048

Status: Unutilized

Reasons: Secured Area

Bldgs. 266, 267

Naval Air Station

Meridian, MS 39309

Landholding Agency: Navy

Property Number: 77200720049

Status: Unutilized

Reasons: Secured Area

Bldgs. 351, 445

Naval Air Station

Meridian, MS 39309

Landholding Agency: Navy

Property Number: 77200720050

Status: Unutilized

Reasons: Secured Area

Unsuitable Properties

Building

Nevada 28 Facilities

Nevada Test Site

Mercury Co: Nye, NV 89023

Landholding Agency: Energy

Property Number: 41200310018

Status: Excess

Reasons: Secured Area, Other—contamination

31 Bldgs./Facilities

Nellis AFB

Tonopah Test Range

Tonopah Co: Nye, NV 89049

Landholding Agency: Energy

Property Number: 41200330003

Status: Unutilized

Reasons: Secured Area

42 Bldgs.

Nellis Air Force Base

Tonopah Co: Nye, NV 89049

Landholding Agency: Energy

Property Number: 41200410029

Status: Unutilized

Directions: 49-01, NM104, NM105, 03-35A-H, 03-35J-N, 03-36A-C, 03-36E-H, 03-36J-N, 03-36R, 03-37, 15036, 03-44A-D, 03-46, 03-47, 03-49, 03-88, 03-89, 03-90

Reasons: Secured Area

Unsuitable Properties

Building

Nevada

241 Bldgs.

Tonopah Test Range

Tonopah Co: Nye, NV 89049

Landholding Agency: Energy

Property Number: 41200440036

Status: Excess

Reasons: Secured Area, Within 2000 ft. of flammable or explosive material

10 Bldgs.

Nevada Test Site

Mercury Co: Nye, NV 89023

Landholding Agency: Energy

Property Number: 41200610003

Status: Excess

Reasons: Secured Area

3 Bldgs.

Nevada Test Site 23-790, 06-CP50, 26-2107

Mercury Co: Nye, NV 89023

Landholding Agency: Navy

Property Number: 77200510025

Status: Excess

Reasons: Secured Area, Other—contamination

Units 501-521

Naval Air Station

Fallon, NV

Landholding Agency: Navy

Property Number: 77200710017

Status: Excess

Reasons: Secured Area

Unsuitable Properties

Building

New Mexico

Bldgs. 9252, 9268

Kirtland Air Force Base

Albuquerque Co: Bernalillo, NM 87185

Landholding Agency: Energy

Property Number: 41199430002

Status: Unutilized

Reasons: Extensive deterioration

Tech Area II

Kirtland Air Force Base

Albuquerque Co: Bernalillo, NM 87105

Landholding Agency: Energy

Property Number: 41199630004

Status: Unutilized

Reasons: Extensive deterioration, Within 2000 ft. of flammable or explosive material, Secured Area

Bldg. 26, TA-33

Los Alamos National Laboratory

Los Alamos, NM 87545

Landholding Agency: Energy

Property Number: 41199810004

Status: Unutilized

Reasons: Extensive deterioration, Secured Area

Bldg. 2, TA-21

Los Alamos National Laboratory

Los Alamos, NM 87545

Landholding Agency: Energy

Property Number: 41199810008

Status: Underutilized

Reasons: Secured Area

Unsuitable Properties

Building

New Mexico

Bldg. 5, TA-21

Los Alamos National Laboratory

Los Alamos, NM 87545

Landholding Agency: Energy

Property Number: 41199810011

Status: Unutilized

Reasons: Secured Area

Bldg. 116, TA-21

Los Alamos National Laboratory

Los Alamos, NM 87545

Landholding Agency: Energy

Property Number: 41199810013

Status: Unutilized

Reasons: Secured Area

Bldg. 286, TA-21

Los Alamos National Laboratory

Los Alamos, NM 87545

Landholding Agency: Energy

Property Number: 41199810016

Status: Unutilized

Reasons: Secured Area

Bldg. 516, TA-16

Los Alamos National Laboratory

Los Alamos, NM 87545

Landholding Agency: Energy

Property Number: 41199810021

Status: Unutilized

Reasons: Secured Area, Extensive deterioration, Within 2000 ft. of flammable or explosive material

Unsuitable Properties

Building

New Mexico

Bldg. 517, TA-16

Los Alamos National Laboratory

Los Alamos, NM 87545

Landholding Agency: Energy

Property Number: 41199810022

Status: Unutilized

Reasons: Extensive deterioration, Secured Area, Within 2000 ft. of flammable or explosive material

Bldg. 31

Los Alamos National Lab

Los Alamos, NM 87545

Landholding Agency: Energy

Property Number: 41199930003

Status: Unutilized

Reasons: Extensive deterioration, Secured Area

Bldg. 38, TA-14

Los Alamos National Lab

Los Alamos, NM 87545

Landholding Agency: Energy

Property Number: 41199940004

Status: Unutilized

Reasons: Extensive deterioration, Secured Area

Bldg. 9, TA-15

Los Alamos National Lab

Los Alamos, NM 87545

Landholding Agency: Energy

Property Number: 41199940006

Status: Unutilized

Reasons: Secured Area

Unsuitable Properties

Building

New Mexico

Bldg. 141, TA-15

Los Alamos National Lab

Los Alamos, NM 87545

Landholding Agency: Energy

Property Number: 41199940008

Status: Unutilized

Reasons: Secured Area

Bldg. 44, TA-15

Los Alamos National Lab

Los Alamos, NM 87545

Landholding Agency: Energy

Property Number: 41199940009

Status: Unutilized

Reasons: Secured Area

Bldg. 2, TA-18

Los Alamos National Lab

Los Alamos, NM 87545

Landholding Agency: Energy

Property Number: 41199940010

Status: Unutilized

Reasons: Extensive deterioration, Secured Area

Bldg. 5, TA-18

Los Alamos National Lab

Los Alamos, NM 87545

Landholding Agency: Energy

Property Number: 41199940011

Status: Unutilized

Reasons: Extensive deterioration, Secured Area

Unsuitable Properties

Building

New Mexico

Bldg. 186, TA-18

Los Alamos National Lab

Los Alamos, NM 87545

Landholding Agency: Energy

Property Number: 41199940012

Status: Unutilized

Reasons: Extensive deterioration, Secured Area

Bldg. 188, TA-18

Los Alamos National Lab

Los Alamos, NM 87545

Landholding Agency: Energy

Property Number: 41199940013

Status: Unutilized

Reasons: Extensive deterioration, Secured Area

Bldg. 45, TA-36

Los Alamos National Lab

Los Alamos, NM 87545

Landholding Agency: Energy

Property Number: 41199940016

Status: Unutilized

Reasons: Extensive deterioration, Secured Area

Unsuitable Properties

Building

New Mexico

Bldg. 258, TA-46

Los Alamos National Lab

Los Alamos, NM 87545

Landholding Agency: Energy

Property Number: 41199940019

Status: Unutilized

Reasons: Extensive deterioration, Secured Area

TA-3, Bldg. 208

Los Alamos National Lab

Los Alamos, NM 87545

Landholding Agency: Energy

Property Number: 41200010010

Status: Unutilized

Reasons: Extensive deterioration, Secured Area

TA-14, Bldg. 5

Los Alamos National Lab

Los Alamos, NM 87545

Landholding Agency: Energy

Property Number: 41200010019

Status: Unutilized

Reasons: Secured Area

TA-21, Bldg. 150

Los Alamos National Lab

Los Alamos, NM 87545

Landholding Agency: Energy

Property Number: 41200010020

Status: Unutilized

Reasons: Secured Area

Unsuitable Properties

Building

New Mexico

Bldg. 149, TA-21

Los Alamos National Lab

Los Alamos, NM 87545

Landholding Agency: Energy

Property Number: 41200010024

Status: Unutilized

Reasons: Secured Area

Bldg. 312, TA-21

Los Alamos National Lab

Los Alamos, NM 87545

Landholding Agency: Energy

Property Number: 41200010025

Status: Unutilized

Reasons: Secured Area

Bldg. 313, TA-21

Los Alamos National Lab

Los Alamos, NM 87545

Landholding Agency: Energy

Property Number: 41200010026

Status: Unutilized

Reasons: Secured Area

Bldg. 314, TA-21

Los Alamos National Lab

Los Alamos, NM 87545

Landholding Agency: Energy

Property Number: 41200010027

Status: Unutilized

Reasons: Secured Area

Unsuitable Properties

Building

New Mexico

Bldg. 315, TA-21

Los Alamos National Lab

Los Alamos, NM 87545

Landholding Agency: Energy

Property Number: 41200010028

Status: Unutilized

Reasons: Secured Area

Bldg. 1, TA-8

Los Alamos National Lab

Los Alamos, NM 87545

Landholding Agency: Energy

Property Number: 41200010029

Status: Unutilized

Reasons: Secured Area

Bldg. 2, TA-8

Los Alamos National Lab

Los Alamos, NM 87545

Landholding Agency: Energy

Property Number: 41200010030

Status: Unutilized

Reasons: Extensive deterioration, Secured Area

Bldg. 3, TA-8

Los Alamos National Lab

Los Alamos, NM 87545

Landholding Agency: Energy

Property Number: 41200020001

Status: Unutilized

Reasons: Extensive deterioration, Secured Area

Unsuitable Properties

Building

New Mexico

Bldg. 51, TA-9

Los Alamos National Lab

Los Alamos, NM 87545

Landholding Agency: Energy

Property Number: 41200020002

Status: Unutilized

Reasons: Secured Area

Bldg. 30, TA-14

Los Alamos National Lab

Los Alamos, NM 87545

Landholding Agency: Energy

Property Number: 41200020003

Status: Unutilized

Reasons: Secured Area

Bldg. 16, TA-3

Los Alamos National Lab

Los Alamos, NM 87545

Landholding Agency: Energy

Property Number: 41200020009

Status: Unutilized

Reasons: Secured Area

Bldg. 48, TA-55

Los Alamos National Lab

Los Alamos, NM 87545

Landholding Agency: Energy

Property Number: 41200020017

Status: Unutilized

Reasons: Secured Area

Unsuitable Properties

Building

New Mexico

Bldg. 125, TA-55

Los Alamos National Lab

Los Alamos, NM 87545

Landholding Agency: Energy

Property Number: 41200020018

Status: Unutilized

Reasons: Secured Area

Bldg. 162, TA-55

Los Alamos National Lab

Los Alamos, NM 87545

Landholding Agency: Energy

Property Number: 41200020019

Status: Unutilized

Reasons: Secured Area

Bldg. 22, TA-33

Los Alamos National Lab

Los Alamos, NM 87545

Landholding Agency: Energy

Property Number: 41200020022

Status: Unutilized

Reasons: Extensive deterioration, Secured Area

Bldg. 23, TA-49

Los Alamos National Lab

Los Alamos, NM 87545

Landholding Agency: Energy

Property Number: 41200020023

Status: Unutilized

Reasons: Secured Area

Unsuitable Properties

Building

New Mexico

Bldg. 37, TA-53

Los Alamos National Lab

Los Alamos, NM 87545

Landholding Agency: Energy

Property Number: 41200020024

Status: Unutilized

Reasons: Secured Area

Bldg. 121, TA-49

Los Alamos National Lab

Los Alamos, NM 87545

Landholding Agency: Energy

Property Number: 41200020025

Status: Unutilized

Reasons: Secured Area

Bldg. B117

Kirtland Operations

Albuquerque Co: Bernalillo, NM 87117

Landholding Agency: Energy

Property Number: 41200220032

Status: Excess

Reasons: Extensive deterioration

Bldg. B118

Kirtland Operations

Albuquerque Co: Bernalillo, NM 87117

Landholding Agency: Energy

Property Number: 41200220033

Status: Excess

Reasons: Extensive deterioration

Unsuitable Properties

Building

New Mexico

Bldg. B119

Kirtland Operations

Albuquerque Co: Bernalillo, NM 87117

Landholding Agency: Energy

Property Number: 41200220034

Status: Excess

Reasons: Extensive deterioration

Bldg. 2, TA-11

Los Alamos National Lab

Los Alamos, NM 87545

Landholding Agency: Energy

Property Number: 41200240004

Status: Unutilized

Reasons: Secured Area

Bldg. 4, TA-41

Los Alamos National Lab

Los Alamos, NM 87545

Landholding Agency: Energy

Property Number: 41200240005

Status: Unutilized

Reasons: Secured Area

Bldg. 116, TA-21

Los Alamos National Lab

Los Alamos, NM 87545

Landholding Agency: Energy

Property Number: 41200310003

Status: Unutilized

Reasons: Secured Area

Unsuitable Properties

Building

New Mexico

Bldgs. 1, 2, 3, 4, 5, TA-28

Los Alamos National Lab

Los Alamos, NM 87545

Landholding Agency: Energy

Property Number: 41200310004

Status: Unutilized

Reasons: Secured Area

Bldgs. 447, 1483

Los Alamos Natl Laboratory

Los Alamos, NM

Landholding Agency: Energy

Property Number: 41200410002

Status: Excess

Reasons: Extensive deterioration, Secured Area

Bldg. 99650

Sandia National Laboratory

Albuquerque Co: Bernalillo, NM 87185

Landholding Agency: Energy

Property Number: 41200510004

Status: Unutilized

Reasons: Secured Area

Unsuitable Properties

Building

New York

Bldgs. 0087, 0100

Brookhaven Natl Laboratory

Upton, NY 11973

Landholding Agency: Energy

Property Number: 41200720002

Status: Excess

Reasons: Within 2000 ft. of flammable or explosive material, Secured Area

Bldgs. 0134A, 0179A

Brookhaven Natl Laboratory

Upton, NY 11973

Landholding Agency: Energy

Property Number: 41200720003

Status: Excess

Reasons: Within 2000 ft. of flammable or explosive material, Secured Area

Bldgs. 0210, 0211

Brookhaven Natl Laboratory

Upton, NY 11973

Landholding Agency: Energy

Property Number: 41200720004

Status: Excess

Reasons: Secured Area, Within 2000 ft. of flammable or explosive material

Bldgs. 0475, 0481

Brookhaven Natl Laboratory

Upton, NY 11973

Landholding Agency: Energy

Property Number: 41200720005

Status: Excess

Reasons: Secured Area, Within 2000 ft. of flammable or explosive material

Unsuitable Properties

Building

New York

Bldgs. 0629, 0952

Brookhaven Natl Laboratory

Upton, NY 11973

Landholding Agency: Energy

Property Number: 41200720006

Status: Excess

Reasons: Within 2000 ft. of flammable or explosive material, Secured Area

Bldg. 0096

Brookhaven National Lab

Upton, NY 11973

Landholding Agency: Energy

Property Number: 41200730004

Status: Unutilized

Reasons: Secured Area, Extensive deterioration

North Carolina

Bldg. 82

Marine Corps Air Station

Cherry Point Co: Craven, NC 28533

Landholding Agency: Navy

Property Number: 77200510009

Status: Underutilized

Reasons: Secured Area

Bldg. 4314

Marine Corps Air Station

Cherry Point Co: Craven, NC 28533

Landholding Agency: Navy

Property Number: 77200510010

Status: Underutilized

Reasons: Secured Area

Unsuitable Properties

Building

North Carolina

Bldg. 124

Marine Corps Air Station

Cherry Point Co: Craven, NC 28533

Landholding Agency: Navy

Property Number: 77200510023

Status: Underutilized

Reasons: Secured Area

Bldgs. 73, 95, 1018

Marine Corps Air Station

Cherry Point, NC

Landholding Agency: Navy

Property Number: 77200620003

Status: Unutilized

Reasons: Secured Area

Bldg. 499

Marine Corps Air Station

Cherry Point, NC

Landholding Agency: Navy

Property Number: 77200620038

Status: Unutilized

Reasons: Secured Area

Bldgs. 3177, 3885

Marine Corps Air Station

Cherry Point, NC

Landholding Agency: Navy

Property Number: 77200620039

Status: Unutilized

Reasons: Secured Area

Unsuitable Properties

Building

North Carolina

Bldg. 4473

Marine Corps Air Station

Cherry Point, NC

Landholding Agency: Navy

Property Number: 77200620040

Status: Unutilized

Reasons: Secured Area

Bldg. 4523

Marine Corps Air Station

Cherry Point, NC

Landholding Agency: Navy

Property Number: 77200620041

Status: Unutilized

Reasons: Secured Area

RPFN 0S1

Group Cape Hatteras

Buxton Co: Dare, NC 27902

Landholding Agency: Coast Guard

Property Number: 88200540001

Status: Unutilized

Reasons: Extensive deterioration,

Secured Area

RPFN 053

Sector N.C.

Atlantic Beach Co: Carteret, NC 28512

Landholding Agency: Coast Guard

Property Number: 88200540002

Status: Unutilized

Reasons: Extensive deterioration

Secured Area

Unsuitable Properties

Building

North Carolina

Equip. Bldg.

Coast Guard Station

11101 Station St.

Emerald Isle, NC

Landholding Agency: Coast Guard

Property Number: 88200630001

Status: Unutilized

Reasons: Secured Area

Pennsylvania

Z-Bldg.

Bettis Atomic Power Lab

West Mifflin Co: Allegheny, PA 15122-0109

Landholding Agency: Energy

Property Number: 41199720002

Status: Excess

Reasons: Extensive deterioration

South Carolina

Bldg. 701-6G

Jackson Barricade

Jackson, SC

Landholding Agency: Energy

Property Number: 41200420010

Status: Unutilized

Reasons: Secured Area

Unsuitable Properties

Building

South Carolina

Bldg. 211-000F

Nuclear Materials Processing Facility

Aiken, SC 29802

Landholding Agency: Energy

Property Number: 41200420011

Status: Excess

Reasons: Secured Area

Bldg. 221-001F

Nuclear Materials Processing Facility

Aiken, SC 29802

Landholding Agency: Energy

Property Number: 41200420015

Status: Excess

Reasons: Secured Area

Bldg. 190-K

Savannah River Operations

Aiken, SC 29802

Landholding Agency: Energy

Property Number: 41200420030

Status: Unutilized

Reasons: Secured Area

Bldg. 710-015N

Savannah River Operations

Aiken, SC 29802

Landholding Agency: Energy

Property Number: 41200430002

Status: Excess

Reasons: Secured Area

Unsuitable Properties

Building

South Carolina

Bldg. 713-000N

Savannah River Operations

Aiken, SC 29802

Landholding Agency: Energy

Property Number: 41200430003

Status: Excess

Reasons: Secured Area

Bldgs. 80-9G, 10G

Savannah River Operations

Aiken, SC 29802

Landholding Agency: Energy

Property Number: 41200430006

Status: Excess

Reasons: Secured Area

Bldgs. 105-P, 105-R

Savannah River Operations

Aiken, SC 29802

Landholding Agency: Energy

Property Number: 41200430007

Status: Excess

Reasons: Secured Area

Bldg. 183-003L

Savannah River Operations

Aiken, SC 29802

Landholding Agency: Energy

Property Number: 41200430009

Status: Excess

Reasons: Secured Area

Unsuitable Properties

Building

South Carolina

Bldg. 221-016F

Savannah River Operations

Aiken, SC 29802

Landholding Agency: Energy

Property Number: 41200430014

Status: Excess

Reasons: Secured Area

Bldgs. 221-053F, 054F

Savannah River Operations

Aiken, SC 29802

Landholding Agency: Energy

Property Number: 41200430016

Status: Excess

Reasons: Secured Area

Bldgs. 252-003F, 005F

Savannah River Operations

Aiken, SC 29802

Landholding Agency: Energy

Property Number: 41200430017

Status: Excess

Reasons: Secured Area

Bldg. 315-M

Savannah River Operations

Aiken, SC 29802

Landholding Agency: Energy

Property Number: 41200430030

Status: Excess

Reasons: Secured Area

Unsuitable Properties

Building

South Carolina

Bldg. 716-002A

Savannah River Operations

Aiken, SC 29802

Landholding Agency: Energy

Property Number: 41200430040

Status: Excess

Reasons: Secured Area

Bldgs. 221-21F, 22F

Savannah River Operations

Aiken, SC 29802

Landholding Agency: Energy

Property Number: 41200430042

Status: Excess

Reasons: Secured Area

Bldg. 221-033F

Savannah River Operations

Aiken, SC 29802

Landholding Agency: Energy

Property Number: 41200430043

Status: Excess

Reasons: Secured Area

Bldg. 254-007F

Savannah River Operations

Aiken, SC 29802

Landholding Agency: Energy

Property Number: 41200430044

Status: Excess

Reasons: Secured Area

Unsuitable Properties

Building

South Carolina

Bldg. 281-001F

Savannah River Operations

Aiken, SC 29802

Landholding Agency: Energy

Property Number: 41200430045

Status: Excess

Reasons: Secured Area

Bldg. 281-004F

Savannah River Operations

Aiken, SC 29802

Landholding Agency: Energy

Property Number: 41200430046

Status: Excess

Reasons: Secured Area

Bldg. 281-006F

Savannah River Operations

Aiken, SC 29802

Landholding Agency: Energy

Property Number: 41200430047

Status: Excess

Reasons: Secured Area

Bldg. 703-045A

Savannah River Operations

Aiken, SC 29802

Landholding Agency: Energy

Property Number: 41200430050

Status: Excess

Reasons: Secured Area

Unsuitable Properties

Building

South Carolina

Bldg. 703-071A

Savannah River Operations

Aiken, SC 29802

Landholding Agency: Energy

Property Number: 41200430051

Status: Excess

Reasons: Secured Area

Bldg. 754-008A

Savannah River Operations

Aiken, SC 29802

Landholding Agency: Energy

Property Number: 41200430058

Status: Excess

Reasons: Secured Area

Bldg. 186-R

Savannah River Site

Aiken, SC

Landholding Agency: Energy

Property Number: 41200430063

Status: Unutilized

Reasons: Secured Area

4 Bldgs.

Savannah River Site

#281-2F, 281-5F, 285-F, 285-5F

Aiken, SC

Landholding Agency: Energy

Property Number: 41200430066

Status: Unutilized

Reasons: Secured Area

Unsuitable Properties

Building

South Carolina

Bldg. 701-000M

Savannah River Site

Aiken, SC 29802

Landholding Agency: Energy

Property Number: 41200430084

Status: Unutilized

Reasons: Secured Area

Bldg. 690-000N

Savannah River Site

Aiken, SC 29802

Landholding Agency: Energy

Property Number: 41200440032

Status: Underutilized

Reasons: Secured Area

Facility 701-5G

Savannah River Site

New Ellenton, SC

Landholding Agency: Energy

Property Number: 41200530003

Status: Unutilized

Reasons: Extensive deterioration

Bldg. 714-000A

Savannah River Site

Aiken, SC

Landholding Agency: Energy

Property Number: 41200620014

Status: Underutilized

Reasons: Secured Area

Unsuitable Properties

Building

South Carolina

Bldg. 777-018A

Savannah River Site

Aiken, SC 29802

Landholding Agency: Energy

Property Number: 41200620022

Status: Excess

Reasons: Secured Area

Bldgs. 108-1P, 108-2P

Savannah River Site

Aiken, SC 29802

Landholding Agency: Energy

Property Number: 41200630007

Status: Unutilized

Reasons: Secured Area

Bldg. 701-001P

Savannah River Site

Aiken, SC 29802

Landholding Agency: Energy

Property Number: 41200640002

Status: Unutilized

Reasons: Secured Area

Bldgs. 151-1P, 151-2P

Savannah River Site

Aiken, SC 29802

Landholding Agency: Energy

Property Number: 41200640004

Status: Unutilized

Reasons: Secured Area

Unsuitable Properties

Building

South Carolina

Bldg. 191-P

Savannah River Site

Aiken, SC 29802

Landholding Agency: Energy

Property Number: 41200640005

Status: Unutilized

Reasons: Secured Area

Bldg. 710-P

Savannah River Site

Aiken, SC 29802

Landholding Agency: Energy

Property Number: 41200640006

Status: Unutilized

Reasons: Secured Area

Bldg. 614-63G

Savannah River Site

Aiken, SC 29802

Landholding Agency: Energy

Property Number: 41200710006

Status: Unutilized

Reasons: Secured Area

Bldgs. 701-2G, -905-117G

Savannah River Site

Aiken, SC 29802

Landholding Agency: Energy

Property Number: 41200710007

Status: Unutilized

Reasons: Secured Area

Unsuitable Properties

Building

South Carolina

Bldgs. 108-1R, 108-2R

Savannah River Site

Aiken, SC 29802

Landholding Agency: Energy

Property Number: 41200710010

Status: Unutilized

Reasons: Secured Area

Bldgs. 717-003S, 717-010S

Savannah River Site

Aiken, SC 29802

Landholding Agency: Energy

Property Number: 41200710011

Status: Unutilized

Reasons: Secured Area

Bldgs. 1000 thru 1021

Naval Weapons Station

Goose Creek Co: Berkeley, SC 29445

Landholding Agency: Navy

Property Number: 77200440018

Status: Unutilized

Reasons: Secured Area

Bldg. 102

Marine Corps Recruit Depot

Parris Island Co: Beaufort, SC 29905

Landholding Agency: Navy

Property Number: 77200530017

Status: Unutilized

Reasons: Floodway, Secured Area Extensive deterioration

Unsuitable Properties

Building

South Carolina

21 Bldgs.

Naval Weapons Station

Goose Creek Co: Berkely, SC 29445

Landholding Agency: Navy

Property Number: 77200620034

Status: Unutilized

Directions: 4, 167C, 174, 180, 350, 383, 400, 410, 769, 790, 823, 824, 904, 930, 930A, 953, 953A, 971, 975, 2305, 3526

Reasons: Secured Area, Within 2000 ft. of flammable or explosive material

Bldg. 1148

Naval Weapons Station

Goose Creek Co: Berkeley, SC 29445

Landholding Agency: Navy

Property Number: 77200630044

Status: Excess

Reasons: Extensive deterioration

Bldg. 200

Marine Corps Recruit Depot

Parris Island, SC 29905

Landholding Agency: Navy

Property Number: 77200720018

Status: Unutilized

Reasons: Floodway, Secured Area

Unsuitable Properties

Building

Tennessee

Bldg. 9418-1

Y-12 Plant

Oak Ridge Co: Anderson, TN 37831

Landholding Agency: Energy

Property Number: 41199810026

Status: Unutilized

Reasons: Secured Area, Extensive deterioration

Bldg. 2010

Oak Ridge Natl Laboratory

Oak Ridge, TN 37831

Landholding Agency: Energy

Property Number: 41200710009

Status: Excess

Reasons: Extensive deterioration, Secured Area

3 Bldgs.

Y-12 Natl Nuclear Security Complex

Oak Ridge, TN 37831

Landholding Agency: Energy

Property Number: 41200720001

Status: Unutilized

Directions: 9104-01, 9104-02, 9104-03

Reasons: Secured Area

Unsuitable Properties

Building

Tennessee

17 Buildings

Naval Support Activity

Mid-South

Millington, TN 38054

Landholding Agency: Navy

Property Number: 77200520012

Status: Excess

Directions: 892-893, 1704, 1487, 2020, 2035, 2044-2045, 2071, 2074, 2079-2082, 2094, 2096, 2063

Reasons: Secured Area

Bldgs. 2, 3, 5

Naval/Marine Corps Rsv Ctr

Knoxville Co: Knox, TN 37920

Landholding Agency: Navy

Property Number: 77200530018

Status: Unutilized

Reasons: Secured Area, Extensive deterioration

Bldgs. 9720-03, 9720-06

Y-12 Natl Nuclear Security Complex

Oak Ridge, TN 37831

Landholding Agency: Navy

Property Number: 77200720038

Status: Unutilized

Reasons: Secured Area

Unsuitable Properties

Building

Texas

Zone 12, Bldg. 12-20

Pantex Plant

Amarillo Co: Carson, TX 79120

Landholding Agency: Energy

Property Number: 41200220053

Status: Unutilized

Reasons: Within 2000 ft. of flammable or explosive material, Secured Area

Bldgs. 12-017E, 12-019E

Pantex Plant

Amarillo Co: Carson, TX 79120

Landholding Agency: Energy

Property Number: 41200320010

Status: Unutilized

Reasons: Within 2000 ft. of flammable or explosive material, Secured Area

4 Bldgs.

NNSA Pantex Plant

Amarillo Co: Carson, TX 79120

Landholding Agency: Energy

Property Number: 41200540002

Status: Unutilized

Directions: 12-009, 12-009A, 12-R-009A, 12-R-009B

Reasons: Within 2000 ft. of flammable or explosive material, Secured Area

Unsuitable Properties

Building

Texas

Bldg. 12-011A

NNSA Pantex Plant

Amarillo Co: Carson, TX 79120

Landholding Agency: Energy

Property Number: 41200540003

Status: Unutilized

Reasons: Secured Area, Within 2000 ft. of flammable or explosive material

Bldg. 12-097

NNSA Pantex Plant

Amarillo Co: Carson, TX 79120

Landholding Agency: Energy

Property Number: 41200540004

Status: Unutilized

Reasons: Within 2000 ft. of flammable or explosive material, Secured Area

Bldgs. 11-54, 11-54A

Zone 11

Plantex Plant

Amarillo Co: Carson, TX 79120

Landholding Agency: Energy

Property Number: 41200630008

Status: Unutilized

Reasons: Secured Area, Within 2000 ft. of flammable or explosive material

Unsuitable Properties

Building

Texas

Bldg. 12-002B

Zone 12

Pantex Plant

Amarillo Co: Carson, TX 79120

Landholding Agency: Energy

Property Number: 41200630009

Status: Unutilized

Reasons: Within 2000 ft. of flammable or explosive material, Secured Area

4 Bldgs.

12-003, 12-R-003, 12-003L

Zone 12, Pantex Plant

Amarillo Co: Carson, TX 79120

Landholding Agency: Energy

Property Number: 41200630010

Status: Unutilized

Reasons: Within 2000 ft. of flammable or explosive material, Secured Area

Bldg. 12-014

Zone 12

Pantex Plant

Amarillo Co: Carson, TX 79120

Landholding Agency: Energy

Property Number: 41200630011

Status: Unutilized

Reasons: Within 2000 ft. of flammable or explosive material, Secured Area

Unsuitable Properties

Building

Texas

Bldg. 12-24E

Zone 12

Pantex Plant

Amarillo Co: Carson, TX 79120

Landholding Agency: Energy

Property Number: 41200630012

Status: Unutilized

Reasons: Secured Area, Within 2000 ft. of flammable or explosive material

Bldg. 11-029, Zone 11

Pantex Plant

Amarillo Co: Carson, TX 79120

Landholding Agency: Energy

Property Number: 41200640007

Status: Unutilized

Reasons: Within 2000 ft. of flammable or explosive material, Secured Area

Bldg. 1732

Naval Air Station

Corpus Christi Co: Nueces, TX

Landholding Agency: Navy

Property Number: 77200540007

Status: Excess

Reasons: Secured Area, Extensive deterioration

Unsuitable Properties

Building

Texas

Bldg. 243

Naval Air Station Joint Reserve Base

Ft. Worth Co: Tarrant, TX 76127

Landholding Agency: Navy

Property Number: 77200640035

Status: Unutilized

Reasons: Secured Area, Extensive deterioration

Bldg. 1430

Naval Air Station Joint Reserve Base

Ft. Worth Co: Tarrant, TX 76127

Landholding Agency: Navy

Property Number: 77200640036

Status: Unutilized

Reasons: Secured Area, Extensive deterioration

Bldg. 1500

Naval Air Station Joint Reserve Base

Ft. Worth Co: Tarrant, TX 76127

Landholding Agency: Navy

Property Number: 77200640037

Status: Unutilized

Reasons: Extensive deterioration, Secured Area

Bldg. 4151

Naval Air Station Joint Reserve Base

Ft. Worth Co: Tarrant, TX 76127

Landholding Agency: Navy

Property Number: 77200640038

Status: Unutilized

Reasons: Secured Area, Extensive deterioration

Unsuitable Properties

Building

Utah

5 Bldgs.

Naval Industrial Ordinance Plant

Magna, UT 84044

Landholding Agency: Navy

Property Number: 77200720033

Status: Unutilized

Directions: 4D, 6A, 6C, 8C, 10B

Reasons: Within 2000 ft. of flammable or explosive material, Secured Area

4 Bldgs.

Naval Industrial Ordinance Plant

Magna, UT 84044

Landholding Agency: Navy

Property Number: 77200720034

Status: Unutilized

Directions: 11, 15, 16, 19

Reasons: Within 2000 ft. of flammable or explosive material, Secured Area

Bldgs. 22A, 22B, 22C

Naval Industrial Ordinance Plant

Magna, UT 84044

Landholding Agency: Navy

Property Number: 77200720035

Status: Unutilized

Reasons: Secured Area, Within 2000 ft. of flammable or explosive material

Unsuitable Properties

Building

Utah

Bldgs. 23A, 23B, 23C

Naval Industrial Ordinance Plant

Magna, UT 84044

Landholding Agency: Navy

Property Number: 77200720036

Status: Unutilized

Reasons: Secured Area, Within 2000 ft. of flammable or explosive material

4 Bldgs.

Naval Industrial Ordinance Plant

Magna, UT 84044

Landholding Agency: Navy

Property Number: 77200720037

Status: Unutilized

Directions: 33, 45B, 45C, 46D

Reasons: Secured Area, Within 2000 ft. of flammable or explosive material

Virginia

Bldg. U63

Naval Amphibious Base

Little Creek Co: Norfolk, VA 23521

Landholding Agency: Navy

Property Number: 77200610007

Status: Excess

Reasons: Extensive deterioration

Unsuitable Properties

Building

Virginia

Bldg. 3660

Naval Amphibious Base

Little Creek Co: Norfolk, VA 23521

Landholding Agency: Navy

Property Number: 77200610008

Status: Excess

Reasons: Extensive deterioration

Bldg. 3830

Naval Amphibious Base

Little Creek Co: Norfolk, VA 23521

Landholding Agency: Navy

Property Number: 77200610009

Status: Excess

Reasons: Extensive deterioration

Bldgs. 500, 501

Naval Weapon Station

Yorktown, VA 23691

Landholding Agency: Navy

Property Number: 77200640012

Status: Excess

Reasons: Extensive deterioration

Bldg. 628

Naval Weapon Station

Yorktown, VA 23691

Landholding Agency: Navy

Property Number: 77200640013

Status: Excess

Reasons: Extensive deterioration

Unsuitable Properties

Building

Virginia

Bldg. CAD-RR

Naval Weapon Station

Yorktown, VA

Landholding Agency: Navy

Property Number: 77200720024

Status: Excess

Reasons: Extensive deterioration, Secured Area

Bldgs. 25, 30, 99

Naval Weapon Station

Yorktown, VA

Landholding Agency: Navy

Property Number: 77200720025

Status: Excess

Reasons: Secured Area, Extensive deterioration

Bldgs. 141, 142, 143

Naval Weapon Station

Yorktown, VA

Landholding Agency: Navy

Property Number: 77200720026

Status: Excess

Reasons: Secured Area, Extensive deterioration

Bldgs. 144, 145, 146, 147

Naval Weapon Station

Yorktown, VA

Landholding Agency: Navy

Property Number: 77200720027

Status: Excess

Reasons: Extensive deterioration, Secured Area

Unsuitable Properties

Building

Virginia

7 Bldgs.

Naval Weapon Station

Yorktown, VA

Landholding Agency: Navy

Property Number: 77200720028

Status: Excess

Directions: 151, 152, 153, 154, 155, 156, 157

Reasons: Extensive deterioration, Secured Area

Bldgs. 406, 533, 724

Naval Weapon Station

Yorktown, VA

Landholding Agency: Navy

Property Number: 77200720029

Status: Excess

Reasons: Secured Area, Extensive deterioration

Bldgs. 1748, 1749

Naval Weapon Station

Yorktown, VA

Landholding Agency: Navy

Property Number: 77200720030

Status: Excess

Reasons: Secured Area, Extensive deterioration

Unsuitable Properties

Building

Virginia

Bldgs. 1981, 2018

Naval Weapon Station

Yorktown, VA

Landholding Agency: Navy

Property Number: 77200720031

Status: Excess

Reasons: Extensive deterioration, Secured Area

Training Bldg.

USCG Integrated Support Ctr

Portsmouth Co: Norfolk, VA 43703

Landholding Agency: Coast Guard

Property Number: 88200530001

Status: Excess

Reasons: Secured Area

Bldg. 011

Integrated Support Center

Portsmouth Co: Norfolk, VA 43703

Landholding Agency: Coast Guard

Property Number: 88200620002

Status: Excess

Reasons: Secured Area

Unsuitable Properties

Building

Washington

79 Structures

Hanford Site 100, 300, 400

Richland Co: Benton, WA 99352

Landholding Agency: Energy

Property Number: 41200620010

Status: Excess

Directions: Infrastructure Facilities

Reasons: Secured Area

87 Structures

Hanford Site 100, 300, 400

Richland Co: Benton, WA 99351

Landholding Agency: Energy

Property Number: 41200620011

Status: Excess

Directions: Mobile Offices

Reasons: Secured Area

139 Structures

Hanford Site 100, 300, 400

Richland Co: Benton, WA 99352

Landholding Agency: Energy

Property Number: 41200620012

Status: Excess

Directions: Offices Facilities

Reasons: Secured Area

Unsuitable Properties

Building

Washington

122 Structures

Hanford Site 100, 300, 400

Richland Co: Benton, WA 99352

Landholding Agency: Energy

Property Number: 41200620013

Status: Excess

Directions: Process Facilities

Reasons: Secured Area

Bldg. 529

Puget Sound Naval Shipyard

Bremerton, WA 98314-5000

Landholding Agency: Navy

Property Number: 77200040020

Status: Excess

Reasons: Secured Area

Bldg. 8

Naval Reserve Center

Spokane, WA 99205

Landholding Agency: Navy

Property Number: 77200430025

Status: Excess

Reasons: Secured Area, Extensive deterioration

Bldgs. 10, 11

Naval Reserve Center

Spokane, WA 99205

Landholding Agency: Navy

Property Number: 77200430026

Status: Excess

Reasons: Secured Area, Extensive deterioration

Unsuitable Properties

Building

Washington

Bldgs. 2656-2658

Naval Air Station

Lake Hancock

Coupeville Co: Island, WA 98239

Landholding Agency: Navy

Property Number: 77200430027

Status: Unutilized

Reasons: Secured Area

Bldgs. 2652, 2705

Naval Air Station

Whidbey

Oak Harbor, WA 98277

Landholding Agency: Navy

Property Number: 77200440010

Status: Unutilized

Reasons: Secured Area

Bldgs. 79, 884

NAS Whidbey Island

Seaplane Base

Oak Harbor, WA 98277

Landholding Agency: Navy

Property Number: 77200440011

Status: Unutilized

Reasons: Secured Area

Bldg. 121

NAS Whidbey Island

Ault Field

Oak Harbor, WA 98277

Landholding Agency: Navy

Property Number: 77200440012

Status: Unutilized

Reasons: Secured Area

Unsuitable Properties

Building

Washington

Bldg. 419

NAS Whidbey Island

Ault Field

Oak Harbor, WA 98277

Landholding Agency: Navy

Property Number: 77200440013

Status: Unutilized

Reasons: Secured Area

Bldgs. 2609, 2610

NAS Whidbey Island

Ault Field

Oak Harbor, WA 98277

Landholding Agency: Navy

Property Number: 77200440014

Status: Unutilized

Reasons: Secured Area

Bldg. 2753

NAS Whidbey Island

Ault Field

Oak Harbor, WA 98277

Landholding Agency: Navy

Property Number: 77200440015

Status: Unutilized

Reasons: Secured Area

Bldg. 108

Naval Magazine

Port Hadlock Co: Jefferson, WA 98339-9723

Landholding Agency: Navy

Property Number: 77200510015

Status: Unutilized

Reasons: Extensive deterioration, Secured Area

Unsuitable Properties

Building

Washington

Bldg. 351

Puget Sound Naval Shipyard

Bremerton, WA 98314

Landholding Agency: Navy

Property Number: 77200530026

Status: Unutilized

Reasons: Within 2000 ft. of flammable or explosive material, Secured Area

Bldg. 1032

Naval Base

Bangor Tower Site

Silverdale, WA 98315

Landholding Agency: Navy

Property Number: 77200630045

Status: Unutilized

Reasons: Secured Area, Within 2000 ft. of flammable or explosive material

Bldg. 71

Naval Magazine

Port Hadlock Co: Jefferson, WA 98339-9723

Landholding Agency: Navy

Property Number: 77200640007

Status: Unutilized

Reasons: Extensive deterioration, Secured Area

Unsuitable Properties

Building

Washington

Bldgs. 82, 83

Naval Magazine

Port Hadlock Co: Jefferson, WA 98339-9723

Landholding Agency: Navy

Property Number: 77200640008

Status: Unutilized

Reasons: Extensive deterioration, Secured Area

Bldgs. 168, 188

Naval Magazine

Port Hadlock Co: Jefferson, WA 98339-9723

Landholding Agency: Navy

Property Number: 77200640009

Status: Unutilized

Reasons: Extensive deterioration, Secured Area

Bldg. 729

Naval Magazine

Port Hadlock Co: Jefferson, WA 98339-9723

Landholding Agency: Navy

Property Number: 77200640010

Status: Unutilized

Reasons: Secured Area, Extensive deterioration

Bldgs. 910, 921

Naval Magazine

Port Hadlock Co: Jefferson, WA 98339-9723

Landholding Agency: Navy

Property Number: 77200640011

Status: Unutilized

Reasons: Secured Area, Extensive deterioration

Unsuitable Properties

Building

Washington

Bldgs. 407, 447

Naval Base

Bremerton Co: Kitsap, WA 98310

Landholding Agency: Navy

Property Number: 77200640014

Status: Excess

Reasons: Secured Area

Bldg. 867

Naval Base

Bremerton Co: Kitsap, WA 98310

Landholding Agency: Navy

Property Number: 77200640015

Status: Excess

Reasons: Secured Area

Bldgs. 937, 975

Naval Base

Bremerton Co: Kitsap, WA 98310

Landholding Agency: Navy

Property Number: 77200640016

Status: Excess

Reasons: Secured Area

Bldg. 1449

Naval Base

Silverdale Co: Kitsap, WA 98315

Landholding Agency: Navy

Property Number: 77200640017

Status: Unutilized

Reasons: Secured Area

Unsuitable Properties

Building

Washington

Bldg. 1670

Naval Base

Silverdale Co: Kitsap, WA 98315

Landholding Agency: Navy

Property Number: 77200640018

Status: Unutilized

Reasons: Secured Area

Bldgs. 2007, 2801

Naval Base

Silverdale Co: Kitsap, WA 98315

Landholding Agency: Navy

Property Number: 77200640019

Status: Unutilized

Reasons: Secured Area

Bldgs. 6021, 6095

Naval Base

Silverdale Co: Kitsap, WA 98315

Landholding Agency: Navy

Property Number: 77200640020

Status: Unutilized

Reasons: Secured Area

Bldgs. 6606, 6661

Naval Base

Silverdale Co: Kitsap, WA 98315

Landholding Agency: Navy

Property Number: 77200640021

Status: Unutilized

Reasons: Secured Area

Unsuitable Properties

Building

Washington

Bldgs. 726, 727, 734

Naval Undersea Warfare

Keyport Co: Kitsap, WA 98345

Landholding Agency: Navy

Property Number: 77200640022

Status: Unutilized

Reasons: Within 2000 ft. of flammable or explosive material, Secured Area

Bldgs. 901, 911

Naval Undersea Warfare

Keyport Co: Kitsap, WA 98345

Landholding Agency: Navy

Property Number: 77200640023

Status: Unutilized

Reasons: Secured Area, Within 2000 ft. of flammable or explosive material

Bldgs. 925, 938

Naval Undersea Warfare

Keyport Co: Kitsap, WA 98345

Landholding Agency: Navy

Property Number: 77200640024

Status: Unutilized

Reasons: Secured Area, Within 2000 ft. of flammable or explosive material

Bldg. 1020

Naval Undersea Warfare

Keyport Co: Kitsap, WA 98345

Landholding Agency: Navy

Property Number: 77200640025

Status: Unutilized

Reasons: Within 2000 ft. of flammable or explosive material, Secured Area

Unsuitable Properties

Building

Washington

Fisher Transit Site

Easement

Jefferson, WA

Landholding Agency: Navy

Property Number: 77200710015

Status: Excess

Reasons: Other—Remote Location

Bldgs. 437, 853

Naval Base

Bremerton Co: Kitsap, WA 98310

Landholding Agency: Navy

Property Number: 77200710018

Status: Unutilized

Reasons: Secured Area

Bldg. 1039

Naval Base

Bremerton Co: Kitsap, WA 98310

Landholding Agency: Navy

Property Number: 77200710019

Status: Unutilized

Reasons: Within 2000 ft. of flammable or explosive material, Secured Area

Bldgs. 1400, 1461

Naval Base

Bremerton Co: Kitsap, WA 98310

Landholding Agency: Navy

Property Number: 77200710020

Status: Unutilized

Reasons: Secured Area, Within 2000 ft. of flammable or explosive material

Unsuitable Properties

Building

Washington

Bldg. 6026

Naval Base

Bremerton Co: Kitsap, WA 98310

Landholding Agency: Navy

Property Number: 77200710021

Status: Unutilized

Reasons: Within 2000 ft. of flammable or explosive material, Secured Area

Bldgs. 6608, 6609, 6904

Naval Base

Bremerton Co: Kitsap, WA 98310

Landholding Agency: Navy

Property Number: 77200710022

Status: Unutilized

Reasons: Secured Area, Within 2000 ft. of flammable or explosive material

Wisconsin

Station Building

Coast Guard Station

Sheboygan, WI

Landholding Agency: Coast Guard

Property Number: 88200610001

Status: Underutilized

Reasons: Secured Area

Bldg. OV1

USCG Station

Bayfield, WI 54814

Landholding Agency: Coast Guard

Property Number: 88200620001

Status: Excess

Reasons: Secured Area

Unsuitable Properties

Land

California

Trailer Space

Naval Base

San Diego, CA

Landholding Agency: Navy

Property Number: 77200520013

Status: Unutilized

Reasons: Secured Area

Parcels 1, 2, 3, 4

Naval Base

Port Hueneme Co: Ventura, CA 93043

Landholding Agency: Navy

Property Number: 77200630003

Status: Underutilized

Reasons: Secured Area

Parcels 11, 12, 13, 14, 15

Naval Base

Port Hueneme Co: Ventura, CA 93043

Landholding Agency: Navy

Property Number: 77200630004

Status: Underutilized

Reasons: Secured Area

Sand Spit

Naval Base

Port Hueneme Co: Ventura, CA 93043

Landholding Agency: Navy

Property Number: 77200720008

Status: Underutilized

Reasons: Floodway

Unsuitable Properties

Land

Washington

405 sq. ft./Land

Naval Base Kitsap

Bangor, WA

Landholding Agency: Navy

Property Number: 77200520060

Status: Unutilized

Reasons: Secured Area

230 sq. ft. land

Naval Magazine

Indian Island, WA

Landholding Agency: Navy

Property Number: 77200620037

Status: Underutilized

Reasons: Within 2000 ft. of flammable or explosive material, Secured Area

Tabook Transit Site

Easement

Jefferson, WA

Landholding Agency: Navy

Property Number: 77200710016

Status: Excess

Reasons: Other—Remote Location

[FR Doc. E7-16489 Filed 8-23-07; 8:45 am]

BILLING CODE 4210-67-P